DEPARTMENT OF TRANSPORTATION

Federal Transit Administration

FTA Fiscal Year 2021 Apportionments, Allocations and Program Information

AGENCY: Federal Transit Administration (FTA), Department of Transportation (DOT).

ACTION: Notice.

SUMMARY: This notice provides priorities for programs in Fiscal Year (FY) 2021, announces Coronavirus Response and Relief Supplemental Appropriations Act, American Rescue Plan Act, and full-year apportionments and allocations for grant programs, provides contract authority, and describes plans for several competitive programs.

FOR FURTHER INFORMATION CONTACT: For general information about this notice, contact John Bodnar, Director of Transit Programs, Office of Program Management, at (202) 366-2053. Please contact the appropriate FTA Regional Office for any specific requests for information or technical assistance. FTA Regional Office contact information is available on FTA's website: www.transit.dot.gov. An FTA headquarters contact for each major program area is included in the discussion of that program in the text of this notice. FTA recommends stakeholders subscribe on FTA's website: www.transit.dot.gov to receive email notifications when new information is available.

SUPPLEMENTARY INFORMATION:

Table of Contents

I. Overview

II. FY 2021 Funding for FTA Programs

A. Funding Available Under the Consolidated Appropriations Act, 2021

B. Oversight Takedown

C. FY 2021 Formula Apportionments: Data and Methodology

III. FY 2021 Program Highlights

A. Emergency Relief Docket

B. Policy Priorities

1. Supporting the Transit Industry COVID-19 Pandemic Response and Recovery

2. Public Transportation Agency Safety Plans

3. Public Transportation Safety Certification Training Program

4. Changes to 2 CFR 200

5. Other Policy Priorities

C. Implementation and Oversight of CARES, CRRSAA and ARP Funding

D. FY 2021 Competitive Program Funding

E. National Defense Authorization Act for FY 2020

F. Prompt Notification of Knowledge of Potential Fraud, Waste, or Abuse Occurring on FTA-Funded Projects

IV. FY 2021 Program-Specific Information

A. Metropolitan Planning Program (49 U.S.C. 5303 and 5305(d))

B. State Planning and Research Program (49 U.S.C. 5304 and 5305(e))

C. Urbanized Area Formula Program (49 U.S.C. 5307)

D. Fixed Guideway Capital Investment Grants Program (49 U.S.C. 5309)

E. Formula Grants for the Enhanced Mobility of Seniors and Individuals With Disabilities Program (49 U.S.C. 5310)

F. Formula Grants for Rural Areas Program (49 U.S.C. 5311)

G. Rural Transportation Assistance Program (49 U.S.C. 5311(b)(3))

H. Appalachian Development Public Transportation Assistance Program (49 U.S.C. 5311(c)(2))

I. Public Transportation on Indian Reservations Program (49 U.S.C. 5311(c)(1))

J. Public Transportation Innovation (49 U.S.C. 5312)

K. Technical Assistance and Workforce Development (49 U.S.C. 5314)

L. Public Transportation Emergency Relief Program (49 U.S.C. 5324)

M. State Safety Oversight Formula Program (49 U.S.C. 5329)

N. State of Good Repair Grants Program (49 U.S.C. 5337)

O. Grants for Buses and Bus Facilities Program (49 U.S.C. 5339)

P. Growing States and High-Density States Formula Factors (49 U.S.C. 5340)

Q. Washington Metropolitan Area Transit Authority Grants

R. Coronavirus Response and Recovery Supplemental Appropriations Act Transit Infrastructure Grants

S. American Rescue Plan Act of 2021

V. FY 2021 Grants

A. Automatic Pre-Award Authority To Incur Project Costs

B. Letter of No Prejudice (LONP) Policy

C. FY 2021 Annual List of Certifications and Assurances

D. Civil Rights Requirements

E. Consolidated Planning Grants

F. Grant Application Procedures

I. Overview

This document provides notice to stakeholders that FTA is apportioning the full Fiscal Year (FY) 2021 authorized contract authority through September 30, 2021, for FTA formula and competitive programs pursuant to Division L of the Consolidated Appropriations Act, 2021 (Pub. L. 116-260). In addition, Section IV.R of this document includes information about supplemental funding provided in Division M of the Consolidated Appropriations Act, 2021, also known as the Coronavirus Response and Recovery Supplemental Appropriations Act (CRRSAA). Section IV.S of this document includes information about the American Rescue Plan Act of 2021 (ARP). Important information about FTA programs, statutory requirements, and policy priorities is also included in this document.

Division B of the Continuing Appropriations Act, 2021 and Other Extensions Act (Pub. L. 116-159), extended the Federal Transit program authorization at FY 2020 funding levels. For each FTA program, this notice provides information on the FY 2021 authorized funding levels, funding availability, and the period of availability of funds. A separate section provides information on pre-award authority as well as other requirements applicable to FTA programs and grant administration. Finally, the notice includes a reference to tables on FTA's website that show new contract authority apportioned and made available through September 30, 2021.

Information in this document includes references to existing FTA program guidance and circulars. Some information in FTA's guidance documents and circulars may have been superseded by provisions in the Fixing America's Surface Transportation (FAST) Act (Pub. L. 114-94), but these guidance documents and circulars remain a resource for program management in most areas.

II. FY 2021 Funding for FTA Programs

A. Funding Available Under the Consolidated Appropriations Act, 2021

Division L of the Consolidated Appropriations Act, 2021 (Pub. L. 116-260) makes $12.8 billion in funding available for FTA programs in FY 2021. The Consolidated Appropriations Act, 2021, provides $10.15 billion in funding for FY2021 from the Mass Transit Account of the Highway Trust Fund at the amounts authorized under 49 U.S.C. 5338(a), as extended for FY 2021 by division B of Continuing Appropriations Act, 2021 and Other Extensions Act. The Consolidated Appropriations Act, 2021 also provides $2.537 billion in general fund appropriations, including $7.5 million for technical assistance and workforce development grants, $2.014 billion for Capital Investment Grants, $150 million for grants to the Washington Metropolitan Area Transit Authority (WMATA), and $516.22 million for transit infrastructure grants, which includes: $118 million for the Grants for Buses and Bus Facilities Formula Program, $125 million for Buses and Bus Facilities competitive grants, $125 million for Low or No Emissions Grants, $40 million for Formula Grants for Rural Areas, $40 million for the Section 5340 High Density States Apportionments, $40 million for State of Good Repair Grants, $16.22 million for competitive grants in areas of persistent poverty, $8 million for Passenger Ferry Grants, of which $4 million is for low or no emission ferries, $1 million for the Section 5312 demonstration and deployment of innovative mobility solutions program, $1 million for the Section 5312 accelerating innovative mobility initiative, and $2 million for vehicle testing facilities. Current funding availability for each program is identified in Section IV of this notice and in Table 1 located on FTA's FY 2021 Apportionment web page: www.transit.dot.gov/funding/apportionments.

B. Oversight Takedown

Section 5338(f) of title 49, United States Code (all subsequent statutory references are to title 49, United States Code unless otherwise noted) provides for the following oversight takedowns of FTA programs: 0.5 percent of Metropolitan and Statewide Planning funds, 0.75 percent of Urbanized Area Formula Grant funds, 1 percent of Fixed Guideway Capital Investment Grants funds, 0.5 percent of Formula Grants for the Enhanced Mobility of Seniors and Individuals with Disabilities funds, 0.5 percent of Formula Grants for Rural Areas funds, 1 percent of State of Good Repair Formula Grants funds, 0.75 percent of Grants for Buses and Bus Facilities funds, and 1 percent of funds for Capital and Preventive Maintenance Projects grants to the Washington Metropolitan Area Transit Authority. FTA uses the funds to provide necessary oversight activities, such as oversight of the construction of any major capital project receiving Federal public transportation assistance; conducting reviews and audits of State Safety Oversight, drug and alcohol programs, civil rights compliance, procurement systems, management, planning certification, and financial management reviews and audits; evaluating and analyzing of recipient-specific problems and issues; and providing technical assistance to correct deficiencies identified in compliance reviews and audits.

C. FY 2021 Formula Apportionments: Data and Methodology

1. Apportionment Tables

FTA publishes apportionment tables on its website for each program that reflect the funding level in the full-year appropriations act less oversight take-downs, as applicable. FTA has posted tables displaying the funds available to eligible states, tribes, and urbanized areas to www.transit.dot.gov/funding/apportionments. This website contains a page listing the apportionment and allocation tables for FY 2021, links to prior year formula apportionment notices and tables, and the National Transit Database (NTD) and Census data used to calculate the FY 2021 apportionments.

2. National Transit Database (NTD) and Census Data Used in the FY 2021 Apportionments

Consistent with past practices, the apportionment calculations for Sections 5307, 5311 (including 5311(c)(1)), 5329, 5337, and 5339 rely on the most-recent transit service data reported to the NTD, which for FY 2021 is the 2019 report year. Where an apportionment is based on the age of the system, the age is calculated as of September 30, 2020, the last day before FY 2021 began. Recipients of Section 5307 or 5311 funds are required to report to the NTD. Additionally, recipients or subrecipients of any other FTA program that own, operate, or manage assets used in public transportation are required to report asset data to the NTD. Further, several transit operators report to the FTA's NTD on a voluntary basis. For the 2019 report year, the NTD includes data from 935 reporters in urbanized areas, 920 of which reported operating transit service. The NTD also includes data from 1,474 providers of rural transit service, which includes 125 Indian Tribes providing transit service.

Data based on the 2010 Census are used to determine population and population density for Section 5303, 5305, 5307 and 5339 programs, as well as population and land area for the 5311 program. The formulas for Sections 5307, 5311, and 5311(c)(1) include tiers where funding is allocated based on the number of persons living in poverty, and the Section 5310 formula program allocates funding based on the population of older adults and people with disabilities. The Census Bureau no longer publishes decennial census data on persons living in poverty and persons with disabilities. As a result, since FY 2013, FTA has used data for these populations based on the most-recent five-year estimates from the Census Bureau's American Community Survey (ACS). The NTD and Census data that FTA used to calculate the apportionments associated with this notice can be found on FTA's website: www.transit.dot.gov/funding/apportionments.

The FY 2021 apportionments use data on low-income persons, persons with disabilities, and older adults from the 2014-2018 ACS five-year data set, which was published in December 2019. These data represent the most recent five-year ACS estimates that are available as of October 1 for the year being apportioned. As was the case in prior years, data on low-income persons comes from ACS Tables B17024 and C17002, “Age by Ratio of Income to Poverty in the Last Twelve Months” and “Ratio of Income to Poverty Level in The Past 12 Months” respectively, and data on people with disabilities under 65 years old comes from ACS Table S1810, “Disability Characteristics.” Data on older adults (over 65 years old) comes from ACS Table B01001, “Sex by Age.”

The Bureau of the Census carried out a decennial census in 2020. Data collected during the decennial census impacts the type and amount of funding that FTA recipients are eligible to receive. The Bureau of the Census is expected to issue a list of Urbanized Areas and population statistics based on 2020 Census data in 2022. Changes to an area's designation as an urban or rural area will change the grant programs for which recipients in that area are eligible. Changes to the size and population of an area may mean that the area will receive more or less formula funding than it received based on 2010 Census data, or may change whether a recipient receives funding directly from FTA or indirectly from a pass-through entity. FTA expects to use 2020 Census data for the apportionment of FY 2023 funds. The apportionment of funds for FY 2022 will continue to be conducted based on Census data and eligibilities from the 2010 Census. Funding for FY 2022 and prior years will continue to be available to grant recipients based on their geographic classification under the 2010 Census for as long as those funds remain available, in accordance with the terms and conditions of those programs.

The coronavirus disease 2019 (COVID-19) pandemic has substantially impacted transit data reported to the NTD for 2020. Many systems expect 2020 ridership to be significantly less than 2019 ridership. For the FY 2022 formula apportionment, FTA will automatically use either all of an agency's 2019 data or all of their 2020 data, whichever is higher, based on the Vehicle Revenue Miles reported. For the FY 2023 formula apportionment, FTA will automatically use either all of an agency's 2019 data or else all of their 2021 data, whichever is higher, based on the Vehicle Revenue Miles reported. An agency does not need to submit a disaster waiver request to FTA to receive this benefit as it will be automatically applied to every NTD Report. As FTA will use all of a particular year's data for the formula apportionment, some individual data elements might be higher in the alternative year. In some cases, an agency may prefer to use the entire data set from the alternative year, in which case you should contact your NTD analyst when filing your report. FTA also does not guarantee a positive change in apportionment to an Urbanized Area (UZA), State, or Tribal Area from the prior year since that depends not only an agency's own data, but also on the data reported by all other transit systems, as well as on the total amount of appropriations enacted. Recipients should consult FTA's COVID-19 FAQs on the FTA website or contact the NTD Help Desk for the most-recent information on that policy.

III. FY 2021 Program Highlights

A. Emergency Relief Docket

Pursuant to 49 CFR 601.42, in January 2021, FTA established an Emergency Relief Docket for calendar year 2021. After an emergency or major disaster, if FTA requirements impede a recipient's or subrecipient's ability to respond to the emergency or major disaster, a recipient or subrecipient may submit a request for temporary relief from FTA administrative and statutory requirements. A recipient or subrecipient seeking relief must submit a petition for waiver of FTA requirements at www.regulations.gov for posting in the docket (FTA-2021-0001). Recipients should discuss a potential request for relief with their FTA Regional Office prior to submitting a docket request to determine if the request is necessary to receive the desired outcome. For additional information on the Emergency Relief Docket, please contact the appropriate FTA Regional Office.

B. Policy Priorities

As FTA implements its programs, it is particularly focused on the following policy priority areas in FY 2021:

1. Supporting the Transit Industry COVID-19 Pandemic Response and Recovery

FTA is dedicated to supporting the transit industry's COVID-19 pandemic response and recovery. FTA will continue to provide guidance, identify areas in which administrative and regulatory waivers will provide relief to the transit industry, and implement programs consistent with the Coronavirus Aid, Relief, and Economic Security (CARES) Act, the Coronavirus Response and Relief Supplemental Appropriations Act (CRRSAA), 2021, the American Rescue Plan Act of 2021 (ARP), and any additional supplemental funding that may become available. For details, please visit http://www.transit.dot.gov/coronavirus, section IV.R of this notice, Coronavirus Response and Recovery Supplemental Appropriations Act Transit Infrastructure Grants, and Section IV.S of this notice, American Rescue Plan Act of 2021 Federal Transit Administration Grants, below.

2. Public Transportation Agency Safety Plans

The Public Transportation Agency Safety Plan (PTASP) regulation at 49 CFR part 673 requires certain operators of public transportation systems that receive Federal financial assistance under 49 U.S.C. Chapter 53 to draft and certify a Public Transportation Agency Safety Plan (ASP) by July 20, 2020. On December 11, 2020, FTA issued a Notice of Enforcement Discretion to alert transit agencies that FTA will refrain from taking enforcement action until July 21, 2021 against any FTA recipient or subrecipient subject to the PTASP regulation that is unable to certify that it has established an Agency Safety Plan that complies with the regulation before that date. This Notice superseded the Notice of Enforcement Discretion issued April 22, 2020. During this time, the PTASP Technical Assistance Center will remain available to meet recipients' PTASP technical assistance needs.

a. Applicability

The PTASP regulation applies to all operators of public transportation systems that are recipients and subrecipients of Federal financial assistance under the Urbanized Area Formula Program (49 U.S.C. 5307) and rail transit agencies that are subject to FTA's State Safety Oversight Program. FTA has deferred applicability of part 673 for operators that receive funds only through FTA's Formula Grants for the Enhanced Mobility of Seniors and Individuals with Disabilities Program under 49 U.S.C. 5310 and/or Formula Grants for Rural Areas Program under 49 U.S.C. 5311. In addition, part 673 does not apply to modes of transit service that are subject to the safety jurisdiction of another Federal agency, including passenger ferry operations that are regulated by the United States Coast Guard and commuter rail operations that are regulated by the Federal Railroad Administration.

States must draft and certify ASPs on behalf of small public transportation providers within a State, unless a small provider opts to draft and certify its own ASP and notifies the State that it will do so. A small public transportation provider is a transit operator that meets all of the following requirements:

• Is a recipient or subrecipient of FTA's Urbanized Area Formula Program,

• Operates 100 or fewer vehicles in peak revenue service across all fixed route modes,

• Operates 100 or fewer vehicles in peak revenue service in each non-fixed route mode, and

• Does not operate rail fixed-guideway public transportation.

Regardless of who drafts and certifies an ASP, each transit operator is required to carry out and implement its own ASP.

State Safety Oversight Agencies must review and approve the ASP of each rail transit agency that they oversee.

b. Certifications and Assurances

Applicants for Urbanized Area Formula Program funds, rail transit agencies that are subject to FTA's State Safety Oversight Program, and States that are required to draft and certify an ASP on behalf of a small public transportation provider must certify that they have met the requirements of the PTASP regulation no later than July 20, 2021. The certification requirement does not apply to any applicant that receives financial assistance from FTA exclusively under the Formula Grants for the Enhanced Mobility of Seniors Program (49 U.S.C. 5310), the Formula Grants for Rural Areas Program (49 U.S.C. 5311), or the combination of these two programs.

On December 11, 2020, FTA issued a second Notice of Enforcement Discretion that FTA will refrain from taking enforcement action until July 21, 2021, if any FTA recipient or subrecipient is unable to certify that it has established a compliant Agency Safety Plan. Applicants that receive awards prior to fulfilling their requirements under the PTASP regulation will execute all other relevant certifications and then execute the PTASP certification after the requirements are met, but no later than July 20, 2021. After July 20, 2021, FTA will not process a grant application without the PTASP certification.

For more information on the requirements, please visit the PTASP Technical Assistance Center at https://www.transit.dot.gov/PTASP-TAC.

3. Public Transportation Safety Certification Training Program

The Public Transportation Safety Certification Training Program (PTSCTP) regulation at 49 CFR part 672 provides minimum training requirements for designated personnel. Designated personnel have until August 20, 2021, or a later date dependent on designation, to complete initial PTSCTP training requirements and must complete refresher training every two years thereafter. On December 11, 2020, FTA issued a Notice of Enforcement Discretion to alert recipients and designated personnel that FTA will refrain from taking enforcement action until August 21, 2022, against any FTA recipient subject to the PTSCTP regulation that is unable to meet the initial or refresher training requirements before that date.

a. Applicability

The PTSCTP applies to recipients that operate rail transit systems that are subject to the FTA State Safety Oversight (SSO) Program (49 CFR part 674) and their designated personnel, and State Safety Oversight Agencies (SSOA) and their designated personnel. Designated personnel include SSO employees and contractors who conduct safety audits and examinations of rail transit systems and rail transit agency employees and contractors who are directly responsible for safety oversight of rail transit systems.

b. Certifications and Assurances

FTA recipients that operate rail transit systems are subject to the FTA SSO Program and SSOAs are required to annually certify compliance with the PTSCTP regulation.

4. Changes to Title 2, Code of Federal Regulations (2 CFR)

On August 13, 2020, the Office of Management and Budget (OMB) issued updates to multiple Parts of 2 CFR including part 25: Universal Identifier and System for Award Management; part 170: Reporting Sub-award and Executive Compensation Information; a new section, part 183: Never Contract with the Enemy; and part 200: the Uniform Administrative Requirements, Cost Principles, and Audit Requirements for Federal Awards. Many of the changes were made to provide clarity and align with other regulations and OMB Circulars; coordinate processes, procedures, and reporting requirements; and better identify requirements from best practices.

Two of the provisions, specifically 2 CFR 200.216 and 200.340, took effect immediately. Section 200.216 prohibits federal award recipients from using government funds to enter into contracts (or extend or renew contracts) for certain telecommunications equipment or services, including, but not limited to, those produced by Huawei Technologies Company or ZTE Corporation (or any subsidiary or affiliate of such entities). Section 200.340 describes specific reasons federal awarding agencies, pass-through entities, and non-federal entity recipients may terminate awards or parts of an award.

The remainder of the provisions became effective for new awards and additional funding applied to existing awards on November 12, 2020. The requirements of 2 CFR part 200 are incorporated into FTA awards through the Master Agreement and annual Certifications and Assurances. For the most part, the changes under 2 CFR part 200 do not substantially change administrative requirements, cost principles and audit requirements as experienced by FTA recipients.

Where FTA Circular 5010.1E references the former administrative requirements or FTA Program Circulars reference specific requirements of 49 CFR parts 18 or 19 (the old Common Rule, since repealed), non-Federal entities should follow the current rule in 2 CFR parts 200 and 1201.

A revision to 2 CFR 200.414 eases conditions for the election of the de minimis indirect cost rate. Now, a non-federal entity may elect to use the de minimis rate even if the entity previously had a negotiated rate. Applicants and recipients should contact their FTA Regional Transit Office for assistance.

Applicants and recipients are reminded of the need to maintain current registration in the System for Award Management (SAM) and provide requisite or updated information in a timely manner.

Grant closeout is impacted by changes in 2 CFR 200.344. The revision increases from 90 to 120 the number of days that are allowed after the end of the period of performance to complete closeout requirements, submit required reports, and resolve outstanding obligations. The revised 2 CFR 200.344 also specifies that, if a recipient does not submit all required reports within a year of the end of an award's period of performance, FTA must report the recipient's material failure to comply with the terms of the agreement in FAPIIS (the governmentwide integrity and performance system).

5. Other Policy Priorities

FTA will provide additional information on other policy priorities in upcoming Notices of Funding Opportunity relating to specific competitive grant programs. These priorities will be consistent with the objectives of President Biden's Executive Orders, including, but not limited to: Executive Order 13985: Advancing Racial Equity and Support for Underserved Communities Through the Federal Government; Executive Order 13990: Protecting Public Health and the Environment and Restoring Science To Tackle the Climate Crisis; Executive Order 14005: Ensuring the Future Is Made in All of America by All of America's Workers; and Executive Order 14008: Tackling the Climate Crisis at Home and Abroad.

C. Implementation and Oversight of CARES, CRRSAA and ARP Funding

Beginning in FY 2020, and continuing in FY 2021, FTA has made nearly $70 billion in supplemental funding available to assist transit agencies respond to the COVID-19 pandemic. In addition to providing additional financial assistance to transit agencies, the funding made available through the Coronavirus Aid, Relief, and Economic Security (CARES) Act; the Coronavirus Response and Relief Supplemental Appropriations Act (CRRSAA); and American Rescue Plan (ARP) allowed for changes in how recipients use FTA funds. This includes allowing all recipients, regardless of size or urbanized area population, to charge operating expenses to FTA grants at one hundred percent Federal share.

The total amount of funding provided, the elimination of local match requirements, and the expansion of types of expenses (including operating expenses) has created a need for additional technical assistance and oversight. FTA has developed a new approach to oversight of the COVID-19 relief funding that focuses on both technical assistance and supplemental oversight. As technical assistance to the transit industry, FTA will conduct a series of webinars that will focus on helping recipients understand how to calculate and document operating expenses in order to charge them to FTA grants.

In implementing enhanced oversight of COVID-19 relief funds, FTA will incorporate specific focus areas under FTA's existing oversight program as well as supplemental oversight reviews for recipients not scheduled for a Triennial or State Management Review in FY 2021. Supplemental oversight will entail spot reviews of select recipients to examine expenses charged to FTA grants and documentation of those expenses and may include a review of the recipient's financial systems. This additional oversight will help FTA identify and resolve any issues related to the use of COVID-19 relief funding at an early stage and ensure the proper management and control of the additional funding appropriated to assist transit agencies in recovering from the impacts of COVID-19.

D. FY 2021 Competitive Program Funding

FTA's competitive grant programs and the FY 2021 appropriated funding levels are identified in the chart below. FTA selects projects for funding after issuance of a Notice of Funding Opportunity (NOFO).

FY 2021 competitive programs | Statute 49 U.S.C. | FY 2021 amount ($M) | NOFO published | Applications due
Low or No Emission Grants Competitive Program | 5339(c) | $180.00 | 2/11/2021 | 4/12/2021
Grants for Buses and Bus Facilities Competitive Program | 5339(b) | 409.59 | TBD | TBD
Passenger Ferry Grant Program | 5307(h) | 38.00 | TBD | TBD
Tribal Transit | 5311(c)(1)(A) | 5.00 | 5/27/2021 | 8/25/2021
Integrated Mobility Innovation | 5312 | 1.00 | TBD | TBD
Accelerating Innovative Mobility Challenge Grants | 5312 | 1.00 | TBD | TBD
Transit Workforce Technical Assistance Center | 5314 | 2.50 | 4/9/2021 | 5/10/2021
Bus Exportable Power Systems | 5314 | 1.00 | TBD | TBD
Discretionary Technical Assistance Programs | 5314 | 4.00 | TBD | TBD
Areas of Persistent Poverty Grants | Consolidated Appropriations Act, 2021 | 16.22 | 6/30/2021 | 8/30/2021
Pilot Program for Innovative Coordinated Access and Mobility | FAST Section 3006(b) | 3.50 | TBD | TBD
Transit Oriented Development Planning Grants | MAP-21 20005(b) | 10.00 | 4/21/2021 | 6/21/2021

E. National Defense Authorization Act for FY 2020

Section 7613 of the National Defense Authorization Act for FY 2020 (NDAA) amended 49 U.S.C. 5323 to add subsections (u) Limitation on Certain Rail Rolling Stock Procurements and (v) Cybersecurity Certification for Rail Rolling Stock and Operations. FTA issued guidance to help transit agencies and transit vehicle manufacturers understand and comply with the prohibitions on FTA-funded rolling stock procurements. FTA's NDAA Frequently Asked Questions are based on inquiries from recipients and transit vehicle manufacturers and can be found at https://www.transit.dot.gov/funding/procurement/frequently-asked-questions-regarding-section-7613-national-defense.

F. Prompt Notification of Knowledge of Potential Fraud, Waste, or Abuse Occurring on FTA-Funded Project

Section 39(a)(3) of FTA's Master Agreement includes a requirement that a recipient must “promptly notify” the U.S. DOT Office of Inspector General (OIG), in addition to the FTA Chief Counsel or applicable Regional Counsel, when it has knowledge of potential fraud, waste, or abuse occurring on an FTA-funded project. “Knowledge” includes, but is not limited to, knowledge of a criminal or civil investigation by a Federal, state, or local law enforcement or other investigative agency, a criminal indictment or civil complaint, or probable cause that could support a criminal indictment, or any other credible information in the possession of any divisions of the recipient, including divisions tasked with law enforcement or investigatory functions. For example, such knowledge includes when a recipient's inspector general, legal counsel, or other responsible office begins an investigation involving a project that has received financial assistance from FTA, or knowledge by a recipient's inspector general, legal counsel, senior management, or executives that such an investigation has been initiated by an outside Federal, state, or local entity.

The Master Agreement defines prompt notification as “to refer information without delay and without change.” Unless a recipient can demonstrate extenuating circumstances outside of its control, it should notify the U.S. DOT OIG and FTA Chief Counsel or Regional Counsel within ten (10) business days of the recipient's receipt of such knowledge of potential fraud, waste, or abuse, and this notification should include the project(s) at issue that have received FTA financial assistance.

IV. FY 2021 Program-Specific Information

A. Metropolitan Planning Program (49 U.S.C. 5303 and 5305(d))

Section 5305(d) authorizes Federal funding to support a cooperative, continuous, and comprehensive planning program for transportation investment decision-making at the metropolitan area level. The specific requirements of metropolitan transportation planning are set forth in 49 U.S.C. 5303 and further explained in 23 CFR part 450, as incorporated by reference in 49 CFR part 613, Planning Assistance and Standards. The State DOTs are the designated recipients of Metropolitan Planning Programs (MPP) and State Planning and Research Program (SPRP) funds allocated by FTA, which are then sub-allocated to Metropolitan Planning Organizations (MPOs) for planning activities that support the economic vitality of the metropolitan area. The Secretary has the discretion to award MPP and SPRP assistance to States, authorities of States, MPOs, and local governmental authorities.

Each MPO must establish specific performance targets against system performance measures issued by FTA and the Federal Highway Administration (FHWA) and use these targets in tracking progress towards attaining critical outcomes. The MPO must coordinate with States and transit providers in setting these targets. MPOs must provide a system performance report that evaluates progress in meeting the performance targets in comparison with the system performance identified in prior reports. MPP funding must support work resulting in balanced and comprehensive intermodal transportation planning for the movement of people and goods in the metropolitan area. Comprehensive transportation planning is not limited to transit planning or surface transportation planning, but also encompasses the relationships among land use and all transportation modes, without regard to the programmatic source of Federal assistance. MPP funds may be used for studies relating to management, mobility management, planning, operations, capital requirements, economic feasibility, performance-based planning, safety, and transit asset management. Funds may be used to develop or update the metropolitan planning agreements, and to evaluate previously funded projects or to conduct peer reviews and exchanges of technical data, information, or assistance, among MPOs and other transportation planners. Funds may be used for planning for multimodal transportation access to transit facilities; system planning; scenario planning; corridor-level alternative analysis; development of federally required documents, including the Transit Asset Management Plan and Public Transportation Agency Safety Plan; safety, security and emergency transportation planning; coordinated public transit human services transportation planning; transportation and air quality planning and conformity analysis; and public participation in the transportation planning, including the development of the Public Participation Plan. An exhaustive list of eligible work activities is provided in FTA Circular 8100.1D, Program Guidance for Metropolitan Planning and State Planning and Research Program Grants, dated September 10, 2018.

For more information about the Metropolitan Planning program, please contact Victor Austin at (202) 366-2996 or victor.austin@dot.gov.

1. Authorized Amounts

Federal public transportation law authorizes $142,036,417 to carry out Section 5305. Of the amounts authorized for Section 5305, 82.72 percent, or $117,492,524, is made available to the Metropolitan Planning Program in FY 2021 to provide financial assistance for metropolitan planning needs under Section 5303.

2. FY 2021 Funding Availability

Under the Consolidated Appropriations Act, 2021, $117,492,524 is available to the Metropolitan Planning Program (Section 5305(d)) to support metropolitan transportation planning activities set forth in Section 5303. The total amount apportioned for the Metropolitan Planning Program to States for use by MPOs in urbanized areas (UZAs) is $116,952,863 as shown in the table below, after the deduction for oversight (authorized by Section 5338) and the addition of reapportioned funds.

Metropolitan Planning Program
Total FY 2021 Appropriation Available | $117,492,524
Oversight Deduction | (587,463)
Reapportioned Funds | 47,802
Total Apportioned | 116,952,863

3. Period of Availability

The Metropolitan Planning program funds apportioned in this notice are available for obligation during FY 2021 plus three additional fiscal years. Funds apportioned in FY 2021 must be obligated in grants by September 30, 2024. Any FY 2021 apportioned funds that remain unobligated at the close of business on September 30, 2024, will revert to FTA for reapportionment under the Metropolitan Planning Program.

B. State Planning and Research Program (49 U.S.C. 5304 and 5305(e))

This program provides financial assistance to States for statewide transportation planning and other technical assistance activities, including supplementing the technical assistance program provided through the Metropolitan Planning Program and planning support for non-urbanized areas. The specific requirements of Statewide transportation planning are set forth in 49 U.S.C. 5304 and further explained in 23 CFR part 450 as referenced in 49 CFR part 613, Planning Assistance and Standards. State DOTs are required to reference performance measures and performance targets within the Statewide Planning process. This funding must support work resulting in balanced and comprehensive intermodal transportation planning for the movement of people and goods and has the same eligibilities as MPP funds.

For more information about the State Planning and Research program, please contact Victor Austin at (202) 366-2996 or victor.austin@dot.gov.

1. Authorized Amounts

Federal public transportation law authorizes $24,543,893 in FY 2021 to provide financial assistance for statewide planning and other technical assistance activities under Section 5305. As specified in law, this represents the 17.28 percent of the amounts available for Section 5305 that are allocated to the Statewide Planning and Research program.

2. FY 2021 Funding Availability

Under the Consolidated Appropriations Act, 2021, $24,543,893 is available for the State Planning and Research Program (Section 5305(e)). The total amount apportioned for the State Planning and Research Program (SPRP) is $26,189,795 as shown in the table below, after the deduction for oversight (authorized by Section 5338) and the addition of reapportioned funds.

Statewide Transportation Planning Program
Total FY 2021 Appropriation Available | $24,543,893
Oversight Deduction | (122,719)
Reapportioned Funds | 1,768,621
Total Apportioned | 26,189,795
States' apportionments for this program are displayed in Table 2.

3. Period of Availability

The State Planning and Research program funds apportioned in this notice are available for obligation during FY 2021 plus three additional fiscal years. Accordingly, funds apportioned in FY 2021 must be obligated in grants by September 30, 2024. Any FY 2021 apportioned funds that remain unobligated at the close of business on September 30, 2024 will revert to FTA for reapportionment under the State Planning and Research Program.

C. Urbanized Area Formula Program (49 U.S.C. 5307)

The Urbanized Area Formula Program provides financial assistance to designated recipients in urbanized areas (UZAs) for capital investments in public transportation systems, planning, job access and reverse commute projects, and, in some cases, operating assistance. FTA apportions funds for this program through a statutory formula. Of the amount authorized for Section 5307 each year, $30 million is set aside for the competitive Passenger Ferry Grant Program (Ferry program), as authorized under 49 U.S.C. 5307(h). The Ferry program offers financial assistance to public ferry systems in urbanized areas for capital projects. Projects are selected annually through a funding competition. Additionally, 0.5 percent will be apportioned to eligible States for State Safety Oversight (SSO) program grants, and 0.75 percent will be set aside for program oversight. Further information on the 0.5 percent apportionment to States for the State Safety Oversight Program is provided in section IV.M. of this notice.

For more information about the Urbanized Area Formula Program, contact Alexandria Burns at (202) 366-7464 or alexandria.burns@dot.gov.

For more information about the Ferry program, contact Vanessa Williams at (202) 366-4818 or vanessa.williams@dot.gov.

1. Authorized Amounts

Federal public transportation law authorizes $4,929,452,499 in FY 2021 to provide financial assistance for urbanized areas under Section 5307.

2. FY 2021 Funding Availability

Under the Consolidated Appropriations Act, 2021, $4,929,452,499 is available for the Urbanized Area Formula Program. The total amount apportioned is $5,375,259,282, which includes the addition of reapportioned funds and amounts apportioned to UZAs pursuant to the Section 5340 Growing States and High-Density States Formula factors. This amount to UZAs excludes the set-aside of $30 million for the Ferry program, apportionments under the State Safety Oversight Program, and oversight (authorized by Section 5338), as shown in the table below. A total of $38 million is available for the Ferry program, consisting of the $30 million set-aside noted here, plus an additional $8 million appropriated in the Consolidated Appropriations Act, 2021.

Urbanized Area Formula Program
Total FY 2021 Appropriation Available | ᵃ $4,929,452,499
Oversight Deduction | (36,970,894)
State Safety Oversight Program | (24,647,262)
Ferry Discretionary Program | (30,000,000)
5340 High Density States | 309,364,074
5340 Growing States | 214,889,744
Reapportioned Funds | 13,171,121
Total Apportioned | 5,375,259,282
ᵃ Includes 1.5 percent set-aside for Small Transit Intensive Cities Formula
Table 3 displays the amounts apportioned under the Urbanized Area Formula Program.

3. Period of Availability

Funds made available under the Urbanized Area Formula Program are available for obligation during the year of apportionment plus five additional years. Accordingly, funds apportioned in FY 2021 must be obligated by September 30, 2026. Any FY 2021 apportioned funds that remain unobligated at the close of business on September 30, 2026 will revert to FTA for reapportionment under the Urbanized Area Formula Program.

Funds allocated under the Ferry program have the same period of availability as Section 5307. Accordingly, funds allocated in FY 2021 must be obligated by September 30, 2026. Any of the funds allocated in FY 2021 that remain unobligated at the close of business on September 30, 2026 will revert to FTA for reallocation under the Ferry program. Competitive Ferry program funds are available for obligation during the FY in which funds are allocated/awarded to projects plus five additional years.

D. Fixed Guideway Capital Investment Grants Program (49 U.S.C. 5309)

The Capital Investment Grants (CIG) Program includes four types of eligible projects: New Starts projects, Small Starts projects, Core Capacity Improvement projects, and Programs of Inter-related Projects. Funding is provided for construction of: (1) New fixed guideway systems or extensions to existing fixed guideway systems such as rapid rail (heavy rail), commuter rail, light rail, streetcar, hybrid rail, trolleybus (using overhead catenary), cable car, passenger ferries, and bus rapid transit operating on an exclusive transit lane for the majority of the corridor length during peak periods that also includes features that emulate the services provided by rail fixed guideway, including defined stations, traffic signal priority for public transit vehicles, and short headway bi-directional service for a substantial part of weekdays and weekends; (2) corridor-based bus rapid transit service that does not operate on an exclusive transit lane but includes features that emulate the services provided by rail fixed guideway, including defined stations, traffic signal priority for public transit vehicles, and short headway bi-directional services for a substantial part of weekdays; (3) projects that expand the capacity by at least 10 percent in an existing fixed guideway corridor that is at capacity today or will be in five years; and (4) programs of two or more interrelated projects as described above that have logical connectivity with one another and will all begin construction in a reasonable timeframe. A separate funding program authorized by the FAST Act Section 3005(b) allows for an Expedited Project Delivery Pilot Program.

For more information about the Capital Investment Grants Program contact Elizabeth Day, Office of Capital Project Development, at (202) 366-5159 or elizabeth.day@dot.gov. For more information about the Expedited Project Delivery Pilot Program, contact Mark Ferroni, Office of Planning and Environment, at (202) 366-3233 or mark.ferroni@dot.gov. For information about published allocations for both the CIG and EPD programs contact Eric Hu, Office of Transit Programs, at (202) 366-0870 or eric.hu@dot.gov.

1. Authorized Amounts

Federal public transportation law authorizes $2,301,785,760 in FY 2021 to provide financial assistance for Capital Investment Grants under Section 5309 and Section 3005(b) of the FAST Act.

2. FY 2021 Funding Availability

Under the Consolidated Appropriations Act, 2021, $2,014,000,000 is available for the Capital Investment Grants Program and the FAST Act Section 3005(b) Expedited Project Delivery Pilot Program. The funds are available to be allocated in the following amounts: $1,169,000,000 for New Starts projects; $525,000,000 for Core Capacity projects; $200,000,000 for Small Starts projects; $100,000,000 for FAST Act Section 3005(b) Expedited Project Delivery Pilot Program projects and $20,000,000 for Oversight. The total amount available for projects is $1,994,000,000 as shown in the table below, after the deduction for oversight (authorized by Section 5338).

Capital Investment Grants Program
Total FY 2021 Appropriation Available | $2,014,000,000
Oversight Deduction | (20,000,000)
Total Apportioned | 1,994,000,000

3. Period of Availability

Capital Investment Grants and Expedited Delivery Pilot program funds apportioned in this notice must be obligated in grants by September 30, 2024, as stipulated by the Consolidated Appropriations Act, 2021.

E. Formula Grants for the Enhanced Mobility of Seniors and Individuals With Disabilities Program (49 U.S.C. 5310)

The Section 5310 Enhanced Mobility of Seniors and Individuals with Disabilities Program provides formula funding to States and urbanized areas for meeting the transportation needs of older adults and people with disabilities when the public transportation service provided is unavailable, insufficient, or inappropriate to meet these needs. The program aims to improve mobility for seniors and individuals with disabilities by removing barriers to transportation service and expanding transportation mobility options. The Pilot Program for Innovative Coordinated Access and Mobility Program (Pilot Program) was established by Section 3006(b) of the FAST Act. The purpose of the program is to assist in financing innovative projects for the transportation disadvantaged that improve the coordination of transportation services and non-emergency medical transportation (NEMT) services, including, for example, the deployment of coordination technology, and projects that create or increase access to community One-Call/One-Click Centers.

For more information about the Enhanced Mobility of Seniors and Individuals with Disabilities Program, please contact Destiny Buchanan at (202) 493-8018 or destiny.buchanan@dot.gov.

1. Authorized Amounts

Federal public transportation law authorizes $285,574,688 in FY 2021 to provide formula funding to designated recipients and States for meeting the transportation needs of older adults and people with disabilities. The law also authorizes $3.5 million for the competitive Innovative Coordinated Access and Mobility Pilot Program.

2. FY 2021 Funding Availability

Under the Consolidated Appropriations Act, 2021, $285,574,688 is available for the Section 5310 formula program. The total amount apportioned is $292,921,581 after the oversight deduction and the addition of reapportioned funds as shown in the table below. A total of $3,500,000 is available for the competitive Pilot Program.

Formula Grants for the Enhanced Mobility of Seniors and Individuals With Disabilities Program
Total FY 2021 Appropriation Available | $285,574,688
Oversight Deduction | (1,427,873)
Reapportioned Funds | 8,744,766
Total Apportioned | 292,921,581

3. Period of Availability

The Enhanced Mobility of Seniors and Individuals with Disabilities program funds apportioned in this notice are available for obligation during FY 2021 plus two additional fiscal years. Accordingly, funds apportioned in FY 2021 must be obligated in grants by September 30, 2023. Any FY 2021 apportioned funds that remain unobligated at the close of business on September 30, 2023, will revert to FTA for reapportionment among the States and urbanized areas.

F. Formula Grants for Rural Areas Program (49 U.S.C. 5311)

The Formula Grants for Rural Areas Program provides formula funding to States and Indian tribes to support public transportation in areas with a population of less than 50,000. Funding may be used for capital, operating, planning, job access and reverse commute projects, and State administration expenses. Eligible subrecipients include State and local governmental authorities, Indian Tribes, private non-profit organizations, and private intercity bus companies. Indian Tribes are also eligible direct recipients under the Formula Grants for Rural Areas Program, both for funds apportioned to the States and for projects apportioned or competitively selected to be funded with funds set aside from the Tribal Transit Program.

For more information about the Formula Grants for Rural Areas Program, please contact Elan Flippin at (202) 366-3800 or elan.flippin@dot.gov.

1. Authorized Amounts

Federal public transportation law authorizes $673,299,658 for FY 2021 to provide financial assistance for rural areas under the Formula Grants for Rural Areas Program. This amount includes $35 million for the Tribal Transit Program; $20 million for the Appalachian Program; $13,465,993 for the Rural Transit Assistance Program; and $604,833,665 for the Rural Formula Program.

2. FY 2021 Funding Availability

Under the Consolidated Appropriations Act, 2021, $644,033,664 is available for the Rural Area Formula Program, including an additional $40 million from the transit infrastructure grants appropriation. The total amount apportioned to the program is $728,734,295 as shown in the table below, after the addition of reapportioned funds, the addition of Section 5340(c) Growing States funds, and the oversight deduction authorized by Section 5338.

Grants for Rural Areas Formula Program
Total FY 2021 Appropriation Available | $644,033,664
Oversight Deduction | (3,566,498)
5340 Growing States | 85,779,099
Reapportioned Funds | 2,488,030
Total Apportioned | 728,734,295

3. Period of Availability

The Formula Grants for Rural Areas program funds apportioned in this notice are available for obligation during FY 2021 plus two additional fiscal years. Accordingly, funds apportioned in FY 2021 must be obligated in grants by September 30, 2023. Any FY 2021 apportioned funds that remain unobligated at the close of business on September 30, 2023, will revert to FTA for reapportionment under the Formula Grants for Rural Areas Program.

G. Rural Transportation Assistance Program (49 U.S.C. 5311(b)(3))

This program provides funding to assist in the design and implementation of training and technical assistance projects, research, and other support services tailored to meet the needs of transit operators in rural areas.

For more information about Rural Transportation Assistance Program (RTAP), please contact Elan Flippin at (202) 366-3800 or elan.flippin@dot.gov.

1. Authorized Amounts

Federal public transportation law authorized $13,465,993, or two percent of the funds made available for the Formula Grants for Rural Areas Program, to be made available for the Rural Transportation Assistance Program (RTAP). Of the two percent takedown, 15 percent is reserved for the National Rural Transit Assistance Program (NRTAP). The remainder is available for allocation to the States.

2. FY 2021 Funding Availability

Under the Consolidated Appropriations Act, 2021, $14,265,993 is available for the RTAP. The total amount apportioned for RTAP is $12,126,094 as shown in the table below, after the deduction for NRTAP.

Rural Transportation Assistance Program (RTAP)
Total FY 2021 Appropriation Available | $14,265,993
National RTAP | (2,139,899)
Total Apportioned | 12,126,094

3. Period of Availability

The RTAP funds apportioned in this notice are available for obligation during FY 2021 plus two additional fiscal years. Accordingly, funds apportioned in FY 2021 must be obligated in grants by September 30, 2023.

H. Appalachian Development Public Transportation Assistance Program (49 U.S.C. 5311(c)(2))

This program is a take-down under the Formula Grants for Rural Areas Program to provide additional funding to support public transportation in the Appalachian region. There are thirteen eligible States that receive an allocation under this provision. The State allocations are shown in the Formula Grants for Rural Areas Program table posted on FTA's website on the FY 2021 Apportionments page.

For more information about the Appalachian Development Public Transportation Assistance Program, please contact Elan Flippin at (202) 366-3800 or elan.flippin@dot.gov.

1. Authorized Amounts

Federal public transportation law authorizes $20 million in FY 2021 as a take-down under the Formula Grants for Rural Areas program to support public transportation in the Appalachian region.

2. FY 2021 Funding Availability

Under the Consolidated Appropriations Act, 2021, $20 million is available.

Appalachian Development Public Transportation Assistance Program
Total FY 2021 Appropriation Available | $20,000,000
Total Apportioned | 20,000,000

3. Period of Availability

The Appalachian program funds apportioned in this notice are available for obligation during FY 2021 plus two additional fiscal years, consistent with that established for the Formula Grants for Rural Areas Program. Accordingly, funds apportioned in FY 2021 must be obligated in grants by September 30, 2023.

I. Public Transportation on Indian Reservations Program (49 U.S.C. 5311(c)(1))

The Public Transportation on Indian Reservations Program, or Tribal Transit Program (TTP), totals $35 million, of which $30 million is for a formula program and $5 million is for a competitive grant program. It is funded as a takedown from funds made available for the Formula Grants for Rural Areas program. Formula factors include vehicle revenue miles and the number of low-income individuals residing on tribal lands (defined as American Indian Areas and Alaska Native Areas). Eligible direct recipients are federally recognized Indian tribes and Alaskan Native Villages providing public transportation in rural areas. The TTP funds are allocated for grants to eligible recipients for any purpose eligible under Formula Grants for Rural Areas Program, which includes capital, operating, planning, and job access and reverse commute projects.

For more information about the Tribal Transit Program, contact Destiny Buchanan at (202) 493-8018 or destiny.buchanan@dot.gov.

1. Authorized Amounts

Federal public transportation law authorizes $35 million in FY 2021 to provide assistance to tribes through the Public Transportation on Indian Reservations formula and competitive programs.

2. FY 2021 Funding Availability

Under the Consolidated Appropriations Act, 2021, $30 million is available for the formula program and $5 million for the competitive program. The total apportioned for the formula program is $30,766,775 after the addition of reapportioned funds.

Public Transportation on Indian Reservations Program Formula Grants
Total FY 2021 Appropriation Available | $30,000,000
Reapportioned Funds | 766,775
Total Apportioned | 30,766,775

Public Transportation on Indian Reservations Program Competitive Grants
Total FY 2021 Appropriation Available | $5,000,000
Total Apportioned | 5,000,000

3. Period of Availability

The TTP formula program funds apportioned in this notice are available for obligation during FY 2021 plus two additional fiscal years. Accordingly, funds apportioned in FY 2021 must be obligated in grants by September 30, 2023. Any FY 2021 apportioned funds that remain unobligated at the close of business on September 30, 2023, will revert to FTA for reapportionment under the TTP formula program. Competitive TTP funds are available for obligation during the FY in which funds are awarded to projects plus two additional years.

J. Public Transportation Innovation (49 U.S.C. 5312)

Public Transportation Innovation is FTA's research program with the overarching statutory goal to improve public transportation. The law specifies research focus areas, including providing more effective and efficient public transportation service; mobility management; system capacity; advanced vehicle design; asset maintenance; construction and project management; environment and energy efficiency; and safety improvements. FTA may make grants, enter into contracts, cooperative agreements, and other agreements to carry out research, innovative development, demonstration, and deployment projects, and evaluation and research projects of national significance to public transportation.

Within this section are three distinct programs: (a) A Research, Development, Demonstration, Deployment, and Evaluation program (49 U.S.C. 5312(b)-(e)); (b) a Low or No Emission Vehicle Component Assessment Program (LoNo-CAP) (49 U.S.C. 5312(h)); and (c) a Transit Cooperative Research Program (49 U.S.C. 5312(i)). Eligible recipients can be departments, agencies, and governmental agencies, including Federal laboratories; State and local entities; providers of public transportation; private or non-profit organizations; institutions of higher education; and technical community colleges. Each program area has specific requirements relating to the type of organization that may receive a grant or enter an agreement.

The types of research eligible for funding are broad and include: Opportunities to enhance public transportation operational effectiveness and efficiency; improve services; leverage new types of vehicle technologies; utilize transformative technologies to improve public transportation; field new mobility models; and support increased safety.

In FY 2021, there are two additional provisions to further innovative mobility. The first is for the demonstration and deployment of innovative mobility solutions for the development of software to facilitate the provision of demand-response public transportation service that dispatches public transportation fleet vehicles through riders' mobile devices or other advanced means. Any software developed as part of this project will be shared for use by public transportation agencies. The second provision provides funding for a competitive accelerating innovative mobility initiative that will improve mobility and enhance the rider experience with a focus on innovative service delivery models, creative financing, novel partnerships, and integrated payment solutions.

For more information about the Public Transportation Innovation Program (Sections 5312(b)-(e) and 5312(i)), please contact Adrianne Malasky, Office of Research, Demonstration and Innovation at (202) 366-5496 or adrianne.malasky@dot.gov.

For more information about the LoNo-CAP program (Section 5312(h)), please contact Terrell Williams at (202) 366-0232 or terrell.williams@dot.gov.

1. Authorized Amounts

Federal public transportation law authorizes $30 million in FY 2021 funding for the Public Transportation Innovation Program.

2. FY 2021 Funding Availability

Under the Consolidated Appropriations Act, 2021, $30 million is available for the Public Transportation Innovation Program. The total amounts apportioned to each subcomponent of the program is shown below in the table.

Public Transportation Innovation Program
Research, Development, Demonstration, Deployment, & Evaluation Innovative Mobility Solution | $20,000,000
Discretionary Projects Innovative Mobility Solutions | 1,000,000
Accelerating Innovative Mobility Initiative | 1,000,000
Low or No Emission Vehicle Component Testing | 3,000,000
Transit Cooperative Research Program (TCRP) | 5,000,000
Total Apportioned | 30,000,000

3. Period of Availability

FTA establishes the period in which the funds must be obligated to each project. If the funds are not obligated within that time, they revert to FTA for reallocation under the program.

K. Technical Assistance and Workforce Development (49 U.S.C. 5314)

1. Authorized Amounts

FTA's Technical Assistance and Workforce Development Program has the overarching goals to provide public transportation service more effectively and efficiently; and improve public transportation. Within this section, there are four different types of programs: Technical assistance; standards; training; and human resources. The National Transit Institute (NTI) is funded under this section (49 U.S.C. 5314(c)) to develop and conduct training and educational programs for Federal, State, and local transportation employees, United States citizens, and foreign nationals engaged or to be engaged in Government-aid public transportation work.

For FY 2021, Congress has directed $2.5 million for a Transit Workforce Development Technical Assistance Center, and $1.5 million for a technical assistance center to assist small urban, rural, and tribal public transit recipients and planning organizations with applied innovation and capacity building.

2. FY 2021 Funding Availability

In FY 2021 under the Consolidated Appropriations Act, 2021, $16.5 million is available for the Technical Assistance and Workforce Development program, as shown in the table below. Of the available amounts, $5 million is available for NTI.

Technical Assistance and Workforce Development
Total FY 2021 Appropriation Available | $16,500,000
Total Apportioned | 16,500,000

3. Period of Availability

FTA establishes the period in which the funds must be obligated to each project. If the funds are not obligated within that time, they revert to FTA for reallocation under the program.

For more information about the Technical Assistance and Workforce Program, contact Adrianne Malasky, Office of Research, Demonstration and Innovation at (202) 366-5496 or adrianne.malasky@dot.gov.

L. Public Transportation Emergency Relief Program (49 U.S.C. 5324)

The Public Transportation Emergency Relief Program (49 U.S.C. 5324) assists transit providers with the costs of responding to, recovering from, and preparing for natural disasters. This program does not receive an annual appropriation, and funds that are periodically appropriated by Congress are typically made available through a discretionary grant process.

For more information about the Emergency Relief Program, please contact Thomas Wilson at (202) 366-5279 or thomas.wilson@dot.gov.

M. State Safety Oversight Formula Program (49 U.S.C. 5329)

The State Safety Oversight Formula Program provides funding to support States with rail fixed guideway public transportation systems (rail transit systems) to develop and carry out State Safety Oversight (SSO) Programs consistent with the requirements of 49 U.S.C. 5329.

For more information about the State Safety Oversight Program, please contact Patrick Nemons at (202) 366-4986 or patrick.nemons@dot.gov.

1. Authorized Amounts

Federal public transportation law authorizes $24,647,262 in FY 2021 to provide funding to support States in developing and carrying out the SSO Program.

2. FY 2021 Funding Availability

Under the Consolidated Appropriations Act, 2021, $28,928,494 is available for the State Safety Oversight (SSO) Formula program, including reapportioned funds, as shown in the table below.

State Safety Oversight Formula Program
Total FY 2021 Appropriation Available | $24,647,262
Reapportioned Funds | 4,281,232
Total Apportioned | 28,928,494

3. Period of Availability

SSO Formula Grant program funds are available for the year of apportionment plus, two additional years. Any FY 2021 funds that remain unobligated at the close of business on September 30, 2023, will revert to FTA for reapportionment under the SSO Formula Grant Program.

N. State of Good Repair Grants Program (49 U.S.C. 5337)

The State of Good Repair Program provides financial assistance to designated recipients in Urbanized Areas (UZAs) with fixed guideway and high-intensity motorbus systems for capital investments that maintain, rehabilitate, and replace aging transit assets and bring fixed guideway and high intensity motorbus systems into a state of good repair. FTA apportions funds for this program through a statutory formula using data reported to the National Transit Database (NTD).

For more information about the State of Good Repair Program, please contact Eric Hu at (202) 366-0870 or eric.hu@dot.gov.

1. Authorized Amounts

Federal public transportation law authorizes $2,683,798,369 in FY 2021 for the State of Good Repair Program.

2. FY 2021 Funding Availability

Under the Consolidated Appropriations Act, 2021, $2,723,798,369 is available for the State of Good Repair Program, including an additional $40 million from the Transit Infrastructure Grants appropriation. The total amount apportioned is $2,709,868,483 after the deduction for oversight and the addition of reapportioned funds as shown in the table below. Of the total amount apportioned, $2,632,637,232 is apportioned to the High Intensity Fixed Guideway Formula and $77,231,252 is apportioned to the High Intensity Motorbus Formula.

State of Good Repair Grants Program
Total FY 2021 Appropriation Available | $2,723,798,369
Oversight Deduction | (27,237,984)
Reapportioned Funds | 13,308,098
Total Apportioned | 2,709,868,483

State of Good Repair Grants Program
High Intensity Fixed Guideway Formula | $2,632,637,232
High Intensity Motorbus Formula | 77,231,252
Total Apportioned | 2,709,868,483

3. Period of Availability

The State of Good Repair program funds apportioned in this notice are available for obligation during FY 2021 plus three additional years. Accordingly, funds apportioned in FY 2021 must be obligated in grants by September 30, 2024. Any FY 2021 apportioned funds that remain unobligated at the close of business on September 30, 2024, will revert to FTA for reappointment under the State of Good Repair Program.

O. Grants for Buses and Bus Facilities Program (49 U.S.C. 5339)

The Grants for Buses and Bus Facilities Program provides financial assistance to States, local governmental entities that operate fixed route bus service, and designated recipients for capital investments in public transportation systems to replace, rehabilitate, lease, and purchase buses and related equipment and to construct bus-related facilities, including technological changes or innovations to modify low or no emission vehicles or facilities. Funding is provided through Section 5339(a) formula allocations, Section 5339(b) competitive grants, and Section 5339(c) competitive low or no emission grants.

For more information about the Grants for Buses and Bus Facilities Formula Program, please contact Alexandria Burns at (202) 366-7464 or alexandria.burns@dot.gov. For more information about the competitive Low or No Emissions Grant Program, please contact Amy Volz at (202) 366-7484 or amy.volz@dot.gov. For more information about the Grants for Buses and Bus Facilities Competitive Program please contact Thomas Wilson at (202) 366-5279 or thomas.wilson@dot.gov.

1. Authorized Amounts

Federal public transportation law authorizes $808,653,915 in FY 2021 to provide financial assistance for Grants for Buses and Bus Facilities. Of this amount, $464,609,736 is authorized for the Grants for Buses and Bus Facilities Formula program and $344,044,179 for the Grants for Buses and Bus Facilities Competitive program, of which $55 million is available for the Low or No Emissions program.

2. Funding Availability

Under the Consolidated Appropriations Act, 2021, $1,176,653,915 is available for Grants for Buses and Bus Facilities. Of this amount: $592,868,755 is available for the Grants for Buses and Bus Facilities Formula Program after the deduction for oversight and the addition of reapportioned funds; $409,588,848 is available for the Grants for Buses and Bus Facilities Competitive Program after the takedown for oversight; and $180 million is available for the Low or No Emission Grants Program. These amounts are detailed in the table below.

Formula Grants for Buses and Bus Facilities
Total FY 2021 Appropriation Available | $582,609,736
Oversight Deduction | (4,369,573)
Reapportioned Funds | 14,628,592
Total Apportioned | 592,868,755
Competitive Grants for Buses and Bus Facilities
Total FY 2021 Appropriation Available | 594,044,179
Oversight Deduction | (4,455,331)
Less Section 5339(c) Low or No Emission Grants (Competitive) | (180,000,000)
Total Apportioned | 409,588,848
Section 5339(c) Low or No Emission Grants (Competitive)
Total FY 2021 Appropriation Available | 180,000,000
Total Apportioned | 180,000,000

3. Period of Availability

The Buses and Bus Facilities program formula funds apportioned in this notice are available for obligation during FY 2021 plus three additional years. Accordingly, funds apportioned in FY 2021 must be obligated in grants by September 30, 2024. Any FY 2021 apportioned funds that remain unobligated at the close of business on September 30, 2024, will revert to FTA for reapportionment under the Buses and Bus Facilities Formula Program. Competitive Section 5339(b) and 5339(c) funds are available for obligation during the FY in which funds are allocated to projects plus three additional years.

P. Growing States and High-Density States Formula Factors (49 U.S.C. 5340)

Federal public transportation law authorizes the use of formula factors to distribute additional funds to the Section 5307 Urbanized Area Formula program and Section 5311 Formula Grants for Rural Areas program for growing States and high-density States. FTA will continue to publish single urbanized and rural apportionments that show the total amount for Section 5307 and 5311 programs that includes Section 5340 apportionments for these programs.

For more information about this program, please contact Alexandria Burns at (202) 366-7464 or alexandria.burns@dot.gov.

1. Authorized Amounts

Federal public transportation law authorizes $570,032,917 for apportionment in FY 2021 for the Growing States and High-Density States Formula factors.

2. FY 2021 Funding Availability

Under the Consolidated Appropriations Act, 2021, $610,032,917, including an additional $40 million from the transit infrastructure grants appropriation, is available for the Growing States and High-Density States formula.

Growing States and High-Density States Formula Factors
Growing States | $300,668,843
High-Density States | 309,364,074
Total Apportioned | 610,032,917

3. Basis for Formula Apportionment

Under the Growing States portion of the Section 5340 formula, FTA projects each State's 2025 population by comparing each State's apportionment year population (as determined by the Census Bureau) to the State's 2010 Census population and extrapolating to 2025 based on each State's rate of population growth between 2010 and the apportionment year. Each State receives a share of Growing States funds based on its projected 2025 population relative to the nationwide projected 2025 population.

Once each State's share is calculated, funds attributable to that State are divided into an urbanized area allocation and a non-urbanized area allocation based on the percentage of each State's 2010 Census population that resides in urbanized and non-urbanized areas. Urbanized Areas receive portions of their State's urbanized area allocation based on the 2010 Census population in that urbanized area relative to the total 2010 Census population in all urbanized areas in the State. These amounts are added to the Urbanized Area's Section 5307 apportionment. The States' rural area allocation is added to the allocation that each State receives under the Formula Grants for Rural Areas Program.

The High-Density States portion of the Section 5340 formula are allocated to urbanized areas in States with a population density equal to or greater than 370 persons per square mile. Based on this threshold and 2010 Census data, the States that qualify are Maryland, Delaware, Massachusetts, Connecticut, Rhode Island, New York, and New Jersey. The amount of funds provided to each of these seven States is allocated based on the population density of the individual State relative to the population density of all seven States. Once funds are allocated to each State, funds are then allocated to urbanized areas within the States based on an individual urbanized area's population relative to the population of all urbanized areas in that State.

Q. Washington Metropolitan Area Transit Authority Grants

The Consolidated Appropriations Act, 2021 provides funding for Washington Metropolitan Area Transit Authority (WMATA) in the amount of $150 million for the agency's Capital Improvement Program and preventive maintenance projects. This funding is administered as if it were provided under section 601 of the Passenger Rail Investment and Improvement Act of 2008.

For more information about the Washington Metropolitan Area Transit Authority Grants Program, please contact Eric Hu, Office of Transit Programs, at (202) 366-0870 or eric.hu@dot.gov, Daniel Koenig, Region III Office, at (202) 366-8224 or daniel.koening@dot.gov, or Kelly Tyler, Region III Office, at (202) 366-3267 or kelly.tyler@dot.gov.

1. FY 2021 Funding Availability

Under the Consolidated Appropriations Act, 2021, $150 million is available. The total amount available is $148.5 million after the deduction for oversight as shown in the table below.

Washington Metropolitan Area Transit Authority Grants
Total FY 2021 Appropriation Available | $150,000,000
Oversight Deduction | (1,500,000)
Total Apportioned | 148,500,000

2. Period of Availability

Funds appropriated for WMATA under the Consolidated Appropriations Act, 2021 shall remain available until expended.

R. Coronavirus Response and Recovery Supplemental Appropriations Act Transit Infrastructure Grants

1. Funding Availability

Division M of the Consolidated Appropriations Act, 2021 (Pub. L. 116-260)—also known as the Coronavirus Response and Recovery Supplemental Appropriations Act (CRRSAA)—makes $14 billion available to support public transportation in preventing, preparing for, and responding to coronavirus, on top of full-year appropriations. These Transit Infrastructure Grants include $13.26 billion apportioned according to the Urbanized Area Formula Program (49 U.S.C. 5307) and State of Good Repair Program (49 U.S.C. 5337) formulas and administered under the Urbanized Area Formula Program, $678 million apportioned according to the Formula Grants for Rural Areas (49 U.S.C. 5311) formula and administered under the Formula Grants for Rural Areas and Public Transportation on Indian Reservations formula programs, and $50 million apportioned according to the Enhanced Mobility of Seniors and Individuals with Disabilities (49 U.S.C. 5310) formula.

For more information about Urbanized Area Formula CRRSAA Transit Infrastructure grants, please contact Alexandria Burns at (202) 366-7464 or alexandria.burns@dot.gov.

For more information about Rural Area Formula CRRSAA Transit Infrastructure grants, please contact Sarah Clements at (202) 366-3062 or sarah.clements@dot.gov.

For more information about Enhanced Mobility of Seniors and Individuals with Disabilities CRRSAA Transit Infrastructure grants, please contact Marianne Stock at (202) 366-2677 or marianne.stock@dot.gov.

CRRSAA Transit Infrastructure Grants
Recipients of Urbanized Area Formula Program | $13,271,310,572
Recipients of Formula Grants for Rural Areas | 678,654,455
Recipients of Enhanced Mobility of Seniors and Individuals with Disabilities | 50,034,973
Program Management and Oversight | (10,000,000)
Total Apportioned | 13,990,000,000

2. Apportionment Criteria

CRRSAA provides the following criteria for apportioning Transit Infrastructure grants:

a. Under CRRSAA, $13,261,831,064 is available, after excluding $9,479,508 for oversight, to be administered under the Urbanized Area Formula Program (49 U.S.C. 5307), but apportioned through the formulas of the Urbanized Area Formula and the State of Good Repair (SGR) Programs in the same ratio as funds provided under the Further Consolidated Appropriations Act, 2020 (Pub. L. 116-94; 133 Stat. 2534). When this funding is combined with funding already received under the CARES Act (Pub. L. 116-136; 134 Stat. 599), Congress has limited the total amount an Urbanized Area may receive to 75 percent of its 2018 operating expenses as reported in the National Transit Database; amounts in excess of that will be apportioned among urbanized areas that have not reached 75 percent of their 2018 operating costs between CARES Act funding and that which would otherwise be provided by these Transit Infrastructure grants.

b. Under CRRSAA, $648,169,702 is available, after excluding $30 million for Public Transportation on Indian Reservations and $484,753 for oversight, to be apportioned to recipients eligible under the Formula Grants for Rural Areas Program (49 U.S.C. 5311) in the same ratio as funds provided under the Further Consolidated Appropriations Act, 2020 (Pub. L. 116-94; 133 Stat. 2534). When this funding is combined with funding already received under the CARES Act (Pub. L. 116-136; 134 Stat. 599) for rural operating costs, Congress has limited the total amount a State may receive for rural operating costs to 125 percent of the State's combined 2018 rural operating costs of the recipients and subrecipients in the State; amounts in excess of that will be apportioned among States that have not reached 125 percent of their State's combined rural operating costs for 2018 between CARES Act funding and that which would otherwise be provided by these Transit Infrastructure Grants. The $30 million for the Public Transportation on Indian Reservations formula program is apportioned in the same ratio as funds provided under the Further Consolidated Appropriations Act, 2020 but without a limitation on apportionments based on 2018 operating expenses.

c. Under CRRSAA, $49,999,234 is available, after excluding $35,739 for oversight, to be apportioned to recipients eligible under the Enhanced Mobility of Seniors and Individuals with Disabilities Program (49 U.S. 5310) in the same ratio as funds provided under the Further Consolidated Appropriations Act, 2020 (Pub. L. 116-94; 133 Stat. 2534).

3. Period of Availability

Funds are available to recipients until expended.

4. Further Conditions

The following conditions apply to the funding provided under CRRSAA and unobligated funding previously made available under the CARES Act:

a. Funds are available up to a 100-percent Federal share, at the option of the recipient, as are any unobligated funds previously provided under the Enhanced Mobility of Seniors and Individuals with Disabilities Program (49 U.S.C. 5310) from FY 2021 or earlier.

b. Funds are available for the operating expenses of transit agencies related to the response to the COVID-19 public health emergency, including, beginning on January 20, 2020, reimbursement for operating costs to maintain service and lost revenue due to the COVID-19 public health emergency, including the purchase of personal protective equipment, and paying the administrative leave of operations or contractor personnel due to reductions in service.

c. Funds must be directed, to the maximum extent possible, to payroll and operations of public transit (including payroll and expenses of private providers of public transportation), unless the recipient certifies to the Secretary that the recipient has not furloughed any employees.

d. Operating expenses are not required to be included in a transportation improvement program, long range transportation plan, statewide transportation plan, or a statewide transportation improvement program.

e. Private providers of public transportation are considered eligible subrecipients.

S. American Rescue Plan Act of 2021 Federal Transit Administration Grants

1. Funding Availability

Title III Section 3401 of the American Rescue Plan Act of 2021 (Pub. L. 117-2) (ARP) makes $30.5 billion in supplemental appropriations available to support the transit industry during the COVID-19 pandemic. This funding includes $26 billion for eligible recipients of Urbanized Area Formula Program grants (49 U.S.C. 5307); $275.9 million for eligible recipients of Formula Grants for Rural Areas (49 U.S.C. 5311); $6.3 million for States for the Rural Transit Assistance Program (49 U.S.C. 5311(b)(3)); $30 million for the Public Transit on Indian Reservations Formula Program (49 U.S.C. 5311(c)(1); $5 million for the Public Transit on Indian Reservations Competitive Program (49 U.S.C. 5311(c)(1); $50 million for eligible recipients of the Enhanced Mobility of Seniors and Individuals with Disabilities formula Program (49 U.S.C. 5310); $100 million for Interstate Bus Program (49 U.S.C. 5311(f)) services using the Formula Grants for Rural Areas (49 U.S.C. 5311) formula; $1.675 billion for eligible Capital Investment Grants (49 U.S.C. 5309); $25 million for eligible recipients of the Urbanized Area Formula Program (49 U.S.C. 5307) for planning the restoration of services impacted by the coronavirus public health emergency, to be made available through a NOFO; and $2.2 billion for recipients and subrecipients of the Urbanized Area Formula Program and Formula Grants for Rural Areas that need additional assistance, to be made available through a NOFO. A total of $1.5 million is available to FTA for oversight.

For more information About Urbanized Area Formula ARP Federal Transit Administration grants, please contact Alexandria Burns at (202) 366-7464 or alexandria.burns@dot.gov.

For more information about Rural Area Formula ARP Federal Transit Administration grants, please contact Sarah Clements at (202) 366-3062 or sarah.clements@dot.gov.

For more information about Enhanced Mobility of Seniors and Individuals with Disabilities ARP Federal Transit Administration grants, please contact Destiny Buchanan at (202) 493-8018 or destiny.buchanan@dot.gov.

American Rescue Plan Act
Recipients of Urbanized Area Formula Program | $26,086,580,227
Recipients of Formula Grants for Rural Areas | 275,869,733
Rural Transit Assistance Program | 6,344,280
Tribal Transit Program (formula and discretionary) | 35,000,000
Recipients of Enhanced Mobility of Seniors and Individuals with Disabilities | 50,000,000
Interstate Bus Program | 100,000,000
Recipients of Capital Investment Grant Program | 1,675,000,000
Urbanized Area Planning | 25,000,000
Additional Assistance (Discretionary) | 2,207,561,294
Program Management and Oversight | (1,467,770)
Total Apportioned | 30,459,887,764

2. Apportionment Criteria

ARP provides the following criteria for apportioning Federal Transit Administration Grants:

a. $26,085,112,457 is available, after excluding $1,467,770 for oversight, to be administered under the Urbanized Area Formula Program (49 U.S.C. 5307) and apportioned using National Transit Database information, such that each urbanized area is apportioned an amount that—when combined with any funding it may have received through the Coronavirus Aid, Relief, and Economic Security (CARES) Act and Coronavirus Response and Relief Supplemental Appropriations Act (CRRSAA) to prevent, prepare for, and respond to coronavirus—is equal to 132 percent of the urbanized area's 2018 operating costs. Any remaining funds are then apportioned to those urbanized areas that had already received 132 percent or more of their 2018 operating expenses through combined CARES Act and CRRSAA funding, such that each receives an apportionment equal to 25 percent of its 2018 operating costs.

b. $275,869,733 is available to be apportioned to recipients eligible under the Formula Grants for Rural Areas Program (49 U.S.C. 5311) and is apportioned as follows. Considering the total amount previously received by a State through the CARES Act and CRRSAA to prevent, prepare for, and respond to coronavirus, States that have already received 150 percent or more of the combined 2018 rural operating costs of the recipients and subrecipients in the State are apportioned 5 percent of 2018 operating costs; States that have already received between 140 and 150 percent of 2018 operating costs are apportioned 10 percent of 2018 operating costs; and States that have received less than 140 percent of 2018 operating costs are apportioned 20 percent of 2018 operating costs.

c. $30,000,000 is available for Public Transportation on Indian Reservations formula grants (49 U.S.C. 5311(c)(1)(B)), and $5,000,000 for Public Transportation on Indian Reservations discretionary grants (49 U.S.C. 5311(c)(1)(A)). The formula funding is distributed according to the same formula and data as the FY 2021 apportionment for the Tribal formula program. The discretionary funds will be made available through a NOFO.

d. $6,344,280 is available to States for purposes eligible under the Rural Transit Assistance Program (49 U.S.C. 5311(b)(3)).

e. $50,000,000 is available to be apportioned to recipients eligible under the Enhanced Mobility of Seniors and Individuals with Disabilities Program (49 U.S.C. 5310) in the same ratio as funds provided under the Further Consolidated Appropriations Act, 2020 (Pub. L. 116-94; 133 Stat. 2534).

f. $1,675,000,000 is available for recipients and subrecipients of the Capital Investment Grant (CIG) (49 U.S.C. 5309) program. Of the total amount appropriated for CIG recipients, $1,250,000,000 is designated for those with New Starts (Section 5309(d)) and Core Capacity (Section 5309(e)) projects that have existing full funding grant agreements and that received allocations for FY 2019 or FY 2020, except those with projects that are open for revenue service. These funds are apportioned based on the non-CIG share of the amounts allocated. Of the total amount appropriated for CIG recipients, $175,000,000 is designated for those with New Starts and Core Capacity projects that have an existing full funding grant agreement and that received an allocation only prior to FY 2019, except those with projects that are open for revenue service. These funds are apportioned based on the non-Capital Investment Grants program share of the amounts allocated, except that no project may receive more than 40 percent of the total $175,000,000 provided. Any funds that remain due to this limitation are apportioned to those projects that do not exceed 40 percent of the total funding. Of the total amount appropriated for CIG projects, $250,000,000 is designated for those with Small Starts (Section 5309(h)) projects.

g. $100,000,000 is available to States to support bus operators that partner with recipients or subrecipients to provide Interstate Bus service under 49 U.S.C. 5311(f). These funds are allocated using the same ratio as the Formula Grants for Rural Areas (49 U.S.C. 5311) FY 2020 appropriations. States that do not have eligible bus operators may use the apportioned funds for any expense eligible under 49 U.S.C. 5311, but these funds are not subject to the exception in 49 U.S.C. 5311(f)(2) that allows the Governor of a recipient states to certify that the state's interstate bus service needs are already being met.

h. $25,000,000 is available to recipients eligible under the Urbanized Area Formula Program (49 U.S.C. 5307) for the planning of public transportation associated with the restoration of services as the coronavirus public health emergency concludes. These funds will be made available through a NOFO.

g. $2,207,561,294 is available to recipients and subrecipients eligible under the Urbanized Area Formula Program (49 U.S.C. 5307) and Formula Grants for Rural Areas Program (49 U.S.C. 5311) that, as a result of the COVID-19 health emergency, require additional assistance for costs related to operations, personnel, cleaning, and sanitization combating the spread of pathogens on transit systems, and debt service payments incurred to maintain operations and avoid layoffs and furloughs. These funds will be made available through a NOFO no later than 180 days after ARP was enacted.

3. Period of Availability

Funds are available until September 30, 2024, and may not be re-apportioned. Funds must be expended by September 30, 2029. Any funds not disbursed by September 30, 2029, will be deobligated from a grant and returned to the Treasury.

4. Further Conditions

The following conditions apply to the funding provided under ARP:

a. Funds are available up to a 100-percent Federal share, at the option of the recipient.

b. All funds except those for Capital Investment Grants, Rural Transit Assistance Program grants, and Planning Grants are available for the operating expenses of transit agencies to prevent, prepare for, and respond to the coronavirus public health emergency, including, beginning on January 20, 2020: Reimbursement for payroll of public transportation (including payroll and expenses of private providers of public transportation); operating costs to maintain service due to lost revenue as a result of the coronavirus public health emergency, including the purchase of personal protective equipment; and paying the administrative leave of operations or contractor personnel due to reductions in service.

c. Except for Capital Investment grants, Rural Transit Assistance Program grants, and Planning grants, funds must be directed to payroll and operations of public transit (including payroll and expenses of private providers of public transportation), unless the recipient certifies to the Administrator of the Federal Transit Administration that the recipient has not furloughed any employees.

d. Operating expenses are not required to be included in a transportation improvement program, long range transportation plan, statewide transportation plan, or a statewide transportation improvement program.

V. FY 2021 Grants

A. Automatic Pre-Award Authority To Incur Project Costs

1. Caution to New Recipients

While FTA provides pre-award authority to incur expenses before grant award for formula programs, it recommends that first-time grant recipients NOT utilize this automatic pre-award authority without verifying with the appropriate FTA Regional Office that all prerequisite requirements have been met. Commonly, a new recipient may misunderstand pre-award authority conditions and be unaware of all the applicable FTA requirements that must be met in order to be reimbursed for project expenditures incurred in advance of grant award. FTA programs have specific statutory requirements that are often different from those for other Federal grant programs with which new recipients may be familiar. If funds are expended for an ineligible project or activity, or for an eligible activity but at an inappropriate time (e.g., prior to NEPA completion), FTA will be unable to reimburse the project sponsor and, in certain cases, the entire project may be rendered ineligible for FTA assistance.

2. Policy

FTA provides pre-award authority to incur expenses before grant award for certain program areas described below. This pre-award authority allows recipients to incur certain project costs before grant approval and retain the eligibility of those costs for subsequent reimbursement after grant approval. The recipient assumes all risk and is responsible for ensuring that all conditions are met to retain eligibility. This pre-award spending authority permits an eligible recipient to incur costs on an eligible transit capital, operating, planning, or administrative project without prejudice to possible future Federal participation in the cost of the project.

In this notice, FTA provides pre-award authority through the authorization period of the FAST Act, including the extension authorized in the Continuing Appropriations Act, 2021 and Other Extensions Act, plus an additional year (October 1, 2015, through September 30, 2022) for capital assistance under all formula programs, so long as the conditions described below are met.

FTA provides pre-award authority for planning and operating assistance under the formula programs without regard to the period of the authorization. All pre-award authority is subject to conditions and triggers stated below: The actual items of cost associated with the use of pre-award authority are documented in the initial Federal Financial Report (FFR) that is required to be completed prior to the recipient executing the award.

For projects funded by competitive programs, pre-award authority may be granted at the time of project selection.

a. Operating, Planning, or Administrative Assistance

FTA does not impose additional conditions on pre-award authority for operating, planning, or administrative assistance under the formula grant programs. Recipients may be reimbursed for expenses incurred before grant award so long as funds have been expended in accordance with all Federal requirements, would have been allowable if incurred after the date of award, and the recipient is otherwise eligible to receive the funding. In addition to cross-cutting Federal grant requirements, program specific requirements must be met. Designated recipients for Section 5310 funds have pre-award authority for the ten percent of the apportionment they may use for program administration.

b. Transit Capital Projects Other Than Capital Investment Grants

For transit capital projects, the date that costs may be incurred varies depending on the type of activity and its potential to have a significant impact on the human and natural environment as described under conditions in section 3 below.

c. Public Transportation Innovation, Technical Assistance and Workforce Development

Unless provided for in an announcement of project selections, pre-award authority does not apply to Section 5312 Public Transportation Innovation projects or Section 5314 Technical Assistance and Workforce Development projects. Before an applicant may incur costs for activities under these programs, it must first obtain a written Letter of No Prejudice (LONP) from FTA. Information about LONP procedures may be obtained from Lisa Colbert in FTA's Office of Research, Demonstration, and Innovation (TRI): Lisa.Colbert@dot.gov, or call 202-366-9261.

3. Conditions

The conditions under which pre-award authority may be utilized are specified below:

a. Pre-award authority is not a legal or implied commitment that the subject project will be approved for FTA assistance or that FTA will obligate Federal funds. Furthermore, it is not a legal or implied commitment that all items undertaken by the applicant will be eligible for inclusion in the project.

b. All FTA statutory, procedural, and contractual requirements must be met.

c. No action will be taken by the recipient that prejudices the legal and administrative findings that FTA must make in order to approve a project.

d. Local funds expended by the recipient after the date of the pre-award authority will be eligible for credit toward local match or reimbursement if FTA later makes a grant or grant amendment for the project. Local funds expended by the recipient before the date of the pre-award authority will not be eligible for credit toward local match or reimbursement. Furthermore, the expenditure of local funds or the undertaking of certain activities that would compromise FTA's ability to comply with Federal environmental laws (e.g., project implementation activities such as land acquisition, demolition, or construction before the date of pre-award authority) may render the project ineligible for FTA funding.

e. The Federal amount of any future FTA assistance awarded to the recipient for the project will be determined based on the overall scope of activities and the prevailing statutory provisions with respect to the Federal/local match ratio at the time the funds are obligated.

f. For funds to which the pre-award authority applies, the authority expires with the lapsing of the fiscal year funds.

g. When a grant for the project is subsequently awarded, the grant must indicate the use of pre-award authority and an initial Federal Financial Report must be submitted in TrAMS.

h. Environmental Requirements

All Federal environmental requirements must be met at the appropriate time for a project to remain eligible for Federal funding. Designated recipients may incur costs for design and environmental review activities for all formula funded projects from the date of the authorization of the formula funds or for discretionary funded projects other than those funded by the Capital Investment Grants (CIG) program from the date of the announcement of the competitive allocation of funds for the project.

For projects that qualify for a categorical exclusion (CE) pursuant to 23 CFR 771.118(c), designated recipients may start activities and incur costs under pre-award authority for property acquisition, demolition, construction, and acquisition of vehicles, equipment, or construction materials from the date of the authorization of formula funds or the date of the announcement of competitive allocations for the project.

FTA recommends that a grant applicant considering a CE pursuant to 23 CFR 771.118(c) contact the appropriate FTA Regional Office for assistance in determining the proper environmental review process, including other applicable environmental laws, and level of documentation necessary before incurring the above-mentioned costs. This applies especially when the grant applicant believes a c-list CE with construction activities, such as 23 CFR 771.118(c)(8), (9), (10), (12), or (13), applies to its project. If FTA subsequently finds that a project does not qualify for a CE under 23 CFR 771.118(c) and the sponsor has already undertaken activities under pre-award authority, the project will be ineligible for FTA assistance.

For all other non-CIG projects that do not qualify for a CE under 23 CFR 771.118(c), grant applicants may take action and incur costs for property acquisition, demolition, construction, and acquisition of vehicles, equipment, or construction materials from the date that FTA completes the environmental review process required by NEPA and its implementing regulations, 23 U.S.C. 139, and other environmental laws, by its issuance of a 23 CFR 771.118(d) CE determination, a finding of no significant impact (FONSI), a combined final environmental impact statement (FEIS)/record of decision (ROD), or a ROD.

i. Planning and Other Requirements

Formula funds must be authorized or appropriated and competitive project allocations published or announced before pre-award authority can be considered. The requirements that a capital project be included in a locally adopted Metropolitan Transportation Plan, the metropolitan transportation improvement program, and the federally approved statewide transportation improvement program (23 CFR part 450) must be satisfied before the recipient may advance the project beyond planning and preliminary design with non-federal funds under pre-award authority. If the project is located within an EPA-designated non-attainment or maintenance area for air quality, the conformity requirements of the Clean Air Act, 40 CFR part 93, must also be met before the project may be advanced into implementation-related activities under pre-award authority triggered by the completion of the NEPA process. For a planning project to have pre-award authority, the planning project must be included in an MPO-approved UPWP that has been coordinated with the State.

j. Federal procurement procedures, as well as the whole range of applicable Federal requirements (e.g., Buy America, Davis-Bacon Act, and Disadvantaged Business Enterprise) must be followed for projects in which Federal funding will be sought in the future. Failure to follow any such requirements could make the project ineligible for Federal funding. In short, the administrative flexibility allowed by pre-award authority requires a recipient to make certain that no Federal requirements are circumvented.

k. All program specific requirements must be met. For example, projects under Section 5310 must comply with specific program requirements, including coordinated planning. Before incurring costs, recipients are strongly encouraged to consult with the appropriate FTA Regional Office regarding the eligibility of the project for future FTA funds and for questions on environmental requirements, or any other Federal requirements that must be met.

4. Pre-Award Authority for the Fixed Guideway Capital Investment Grants Program

Projects proposed for Section 5309 CIG program funds are required to follow a multi-step, multi-year process defined in law. For New Starts and Core Capacity projects, this process includes three phases: Project development (PD), engineering, and construction. For Small Starts projects, this process includes two phases: PD and construction. After receiving a letter from the project sponsor requesting entry into the PD phase, FTA must respond in writing within 45 days whether the information was sufficient for entry. If FTA's correspondence indicates the information was sufficient and the New Starts, Small Starts or Core Capacity project enters PD, FTA extends pre-award authority at that time to the project sponsor to incur costs for PD activities. PD activities include the work necessary to complete the environmental review process and as much engineering and design activities as the project sponsor believes are necessary to support the environmental review process. Upon completion of the environmental review process with a combined FEIS/ROD, ROD, FONSI, or CE determination by FTA for a New Starts, Small Starts, or Core Capacity Improvement project, FTA extends pre-award authority to the project sponsor to incur costs for as much engineering and design as needed to develop a reasonable cost estimate and financial plan for the project, utility relocation, and real property acquisition and associated relocations for any property acquisitions not already accomplished as a separate project for hardship or protective purposes or right-of-way under 49 U.S.C. 5323(q).

For Small Starts projects, upon completion of the environmental review process and confirmation from FTA that the overall project rating is at least a Medium, FTA extends pre-award authority for vehicle purchases. Upon receipt of a letter notifying a New Starts or Core Capacity project sponsor of the project's approval into the engineering phase, FTA extends pre-award authority for vehicle purchases as well as any remaining engineering and design, demolition, and procurement of long lead items for which market conditions play a significant role in the acquisition price. The long lead items include, but are not limited to, procurement of rails, ties, and other specialized equipment, and commodities.

Please contact the FTA Regional Office for a determination of activities not listed here, but which meet the intent described above. FTA provides this pre-award authority in recognition of the long lead time and complexity involved with purchasing vehicles as well as their relationship to the “critical path” project schedule. FTA cautions recipients that do not currently operate the type of vehicle proposed in the project about exercising this pre-award authority. FTA encourages these sponsors to wait until later in the process when project plans are more fully developed. FTA reminds project sponsors that the procurement of vehicles must comply with all Federal requirements, including, but not limited to, competitive procurement practices, the Americans with Disabilities Act, Disadvantaged Business Enterprise program requirements and Buy America. FTA encourages project sponsors to discuss the procurement of vehicles with FTA in regard to Federal requirements before exercising pre-award authority. Because there is not a formal engineering phase for Small Starts projects, FTA does not extend pre-award authority for demolition and procurement of long lead items. Instead, this work must await receipt of a construction grant award or an expedited grant agreement.

a. Real Property Acquisition

As stated above, FTA extends pre-award authority for the acquisition of real property and real property rights for CIG projects (New or Small Starts or Core Capacity) upon completion of the environmental review process for that project. The environmental review process is completed when FTA signs a combined FEIS/ROD, ROD, FONSI, or makes a CE determination. With the limitations and caveats described below, real estate acquisition may commence, at the project sponsor's risk. To maintain eligibility for a possible future FTA grant award, any acquisition of real property or real property rights must be conducted in accordance with the requirements of the Uniform Relocation Assistance and Real Property Acquisition Policies Act (URA) and its implementing regulations, 49 CFR part 24. This pre-award authority is strictly limited to costs incurred: (i) To acquire real property and real property rights in accordance with the URA regulation; and (ii) to provide relocation assistance in accordance with the URA regulation. This pre-award authority is limited to the acquisition of real property and real property rights that are explicitly identified in the draft environmental impact statement (DEIS), FEIS, environmental assessment (EA), or CE documentation, as needed for the selected alternative that is the subject of the FTA-signed combined FEIS/ROD, ROD, FONSI, or CE determination. This pre-award authority regarding property acquisition that is granted at the completion of the environmental review process does not cover site preparation, demolition, or any other activity that is not strictly necessary to comply with the URA, with one exception—namely when a building that has been acquired, vacated, and awaits demolition poses a potential fire safety hazard or other hazard to the community in which it is located, or is susceptible to unauthorized occupants. Demolition of the building is also covered by this pre-award authority upon FTA's written agreement that the adverse condition exists. Pre-award authority for property acquisition is also provided when FTA makes a CE determination for a protective buy or hardship acquisition in accordance with 23 CFR 771.118(d)(3). Pre-award authority for property acquisition is also provided when FTA completes the environmental review process for the acquisition of right-of-way as a separate project in accordance with 49 U.S.C. 5323(q). When a tiered environmental review in accordance with 23 CFR 771.111(g) is used, pre-award authority is NOT provided upon completion of the first-tier environmental document except when the Tier-1 ROD or FONSI signed by FTA explicitly provides such pre-award authority for a particular, identified acquisition. Project sponsors should use pre-award authority for real property acquisition relocation assistance with a clear understanding that it does not constitute a funding commitment by FTA. FTA provides pre-award authority upon completion of the environmental review process for real property acquisition and relocation assistance for displaced persons and businesses in accordance with the requirements of the URA.

b. Reimbursement of Costs Incurred Under Pre-Award Authority

Although FTA provides pre-award authority for property acquisition, long lead items, demolition, utility relocation, and vehicle purchases upon completion of the environmental review process, FTA does not award Federal funding for these activities conducted under pre-award authority until the project receives a CIG program construction grant. This is to ensure that Federal funds are not risked on a project whose advancement into construction is not yet assured.

c. National Environmental Policy Act (NEPA) Activities

NEPA requires that certain projects proposed for FTA funding assistance be subjected to a public and interagency review of the need for the project, its environmental and community impacts, and alternatives to avoid and reduce adverse impacts. Projects of more limited scope also need a level of environmental review to determine whether there are significant environmental impacts or confirmation that a CE applies. FTA's regulation titled “Environmental Impact and Related Procedures,” at 23 CFR part 771 states that the costs incurred by a grant applicant for the preparation of environmental documents requested by FTA are eligible for FTA financial assistance (23 CFR 771.105(f)). Accordingly, FTA extends pre-award authority for costs incurred to comply with NEPA regulations and to conduct NEPA-related activities, effective as of the earlier of the following two dates: (1) The date of the Federal approval of the relevant STIP or STIP amendment that includes the project or any phase of the project, or that includes a project grouping under 23 CFR 450.216(j) that includes the project; or (2) the date that FTA approves the project into the project development phase of the CIG program. The grant applicant must notify the appropriate FTA Regional Office to initiate the Federal environmental review process consistent with 23 CFR 771.111. NEPA-related activities include, but are not limited to, public involvement activities, historic preservation reviews, Section 4(f) evaluations, wetlands evaluations, and endangered species consultations. This pre-award authority is strictly limited to costs incurred to conduct the NEPA process and associated engineering, and to prepare environmental, historic preservation and related documents. When a New Starts, Small Starts, or Core Capacity project is granted pre-award authority for the environmental review process, the reimbursement for NEPA activities conducted under pre-award authority may be sought at any time through Section 5307 (Urbanized Area Formula Program) or the flexible highway programs (e.g., Surface Transportation Program or Congestion Mitigation and Air Quality Improvement Program). Reimbursement from the Section 5309 CIG program for NEPA activities conducted under pre-award authority is provided only for expenses incurred after entry into the project development phase and only once a construction grant agreement is signed. As with any pre-award authority, FTA reimbursement for costs incurred is not guaranteed and recipients may not start activities and incur costs under pre-award authority for property acquisition, demolition, construction, and acquisition of vehicles, equipment, or construction materials until the environmental review process is complete.

d. Other Activities Requiring Letter of No Prejudice (LONP).

Except as discussed in paragraphs a. through c. above, a CIG project sponsor must obtain a written LONP from FTA before incurring costs for any activity not covered by pre-award authority. To obtain an LONP, an applicant must submit a written request accompanied by adequate information and justification to the appropriate FTA Regional Office, as described in B. below.

For more information about the Fixed Guideway Capital Investment Grants program, including LONP policy, real property acquisition, and reimbursement of costs incurred under Pre-Award Authority, contact Elizabeth Day, Office of Capital Project Development, at (202) 366-5159 or elizabeth.day@dot.gov.

For more information about FTA's National Environmental Policy Act (NEPA) activities, contact Megan Blum, Office of Environmental Programs, at (202) 366-0463 or megan.blum@dot.gov.

5. Pre-Award Authority for the Expedited Project Delivery (EPD) Pilot Program

The EPD Pilot Program, as authorized by Section 3005(b) of the Fixing America's Surface Transportation Act (FAST Act), is aimed at expediting delivery of new fixed guideway capital projects, small starts projects, or core capacity improvement projects. Section 3005(b) requires the FTA to notify Congress and the applicant, in writing, within 120 days after the receipt of a complete application, on the decision of the application. FTA will extend pre-award authority for all eligible project costs at the time it is announced that a project has been selected. There is no pre-award authority provided until a project selection announcement is made, and costs incurred prior to project selection are not eligible. Letters of No Prejudice will not be provided for the EPD Pilot Program, as all eligible costs are covered by pre-award authority at the time of project selection.

Although FTA provides pre-award authority for eligible project costs, FTA does not award Federal funding for these activities conducted under pre-award authority until the project receives an EPD construction grant. This is to ensure that Federal funds are not risked on a project whose advancement into construction is not yet assured. To maintain eligibility for a possible future FTA grant award, any acquisition of real property or real property rights must be conducted in accordance with the requirements of the Uniform Relocation Assistance and Real Property Acquisition Policies Act (URA) and its implementing regulations, 49 CFR part 24.

For more information about the Expedited Project Delivery Pilot Program, contact Mark Ferroni, Office of Planning and Environment, at (202) 366-3233 or mark.ferroni@dot.gov.

B. Letter of No Prejudice (LONP) Policy

1. Policy

LONP authority allows an applicant to incur costs on a project utilizing non-Federal resources, with the understanding that the costs incurred subsequent to the issuance of the LONP may be reimbursable as eligible expenses or eligible for credit toward the local match should FTA approve the project for a grant award at a later date. LONPs are applicable to projects and project activities not covered by automatic pre-award authority. The majority of LONPs will be for Section 5309 CIG program projects undertaking activities not covered under automatic pre-award authority. LONPs may be issued for formula funds beyond the life of the current authorization or FTA's extension of automatic pre-award authority; however, the LONP is limited to a five-year period, unless otherwise authorized in the LONP. Receipt of Federal funding under any program is not implied or guaranteed by an LONP.

2. Conditions and Federal Requirements

The conditions and requirements for pre-award authority specified in section V.A.4.b and V.A.4.c above apply to all LONPs for the CIG program. Because project implementation activities may not be initiated before completion of the environmental review process, FTA will not issue an LONP for such activities until the environmental review process has been completed with a combined FEIS/ROD, ROD, FONSI, or CE determination.

3. Request for LONP

Before incurring costs for project activities not covered by automatic pre-award authority, the project sponsor must first submit a written request for an LONP, accompanied by adequate information and justification, to the appropriate regional office and obtain written approval from FTA. FTA approval of an LONP is determined on a case-by-case basis. Federal funding under the CIG program is not implied or guaranteed by an LONP. Specifically, when requesting an LONP, the applicant shall provide the following items:

a. Description of the activities to be covered by the LONP.

b. Justification for advancing the identified activities. The justification should include an accurate assessment of the consequences to the project scope, schedule, and budget should the LONP not be approved.

c. Allocated level of risk and contingency for the activity requested.

C. FY 2021 Annual List of Certifications and Assurances

Section 5323(n) requires FTA to publish annually a list of all certifications required under Chapter 53 concurrently with the publication of this annual apportionment notice. The 2021 version of FTA's Certifications and Assurances is available on FTA's website. FTA cannot make an award or an amendment to an award unless the recipient has executed the latest version of FTA's Certifications and Assurances. FTA encourages recipients of formula funding to execute the new Certifications and Assurances within 90 days of this notice, to prevent any delay to application processing.

D. Civil Rights Requirements

1. Civil Rights Overview

Recipients must carry out provisions of the Americans with Disabilities Act (ADA) of 1990, Section 504 of the Rehabilitation Act of 1973, as amended, and the Department of Transportation's implementing regulations at 49 CFR parts 27, 37, 38, and 39. FTA's ADA Circular (4710.1) provides guidance for carrying out the regulatory requirements of the ADA. In addition, recipients must regularly prepare and submit in TrAMS civil rights program plans and reports to establish voluntary compliance and document policies and practices in the following areas:

a. Title VI of the Civil Rights Act of 1964: The Department of Transportation's Title VI implementing regulations are found in 49 CFR part 21. FTA's Title VI Circular (4702.1B) provides guidance for carrying out the regulatory requirements and outlines the Title VI program submission process.

b. Disadvantaged Business Enterprise (DBE) program: The Department of Transportation's DBE implementing regulations are found in 49 CFR part 26 and sets forth requirements for implementing the DBE program in good faith and developing and reporting on the triennial DBE goal.

c. Title VII of the Civil Rights Act of 1964, Equal Employment Opportunity (EEO): The Department of Transportation's EEO implementing regulations are found in 49 CFR part 21. FTA's EEO Circular (4704.1A) provides guidance for carrying out the regulatory requirements and outlines the EEO program submission process.

2. Disadvantaged Business Enterprise Program

Recipients are expected to comply with the Disadvantaged Business Enterprise (DBE) regulations, including when exercising pre-award authority and purchasing transit vehicles. The COVID-19 pandemic has created challenges for many, including recipients and small businesses, such as DBEs. The Department of Transportation has emphasized the value and integrity of the DBE program while offering appropriate flexibility to recipients during the COVID-19 pandemic, currently in effect until June 30, 2021. For more information, see: https://www.transportation.gov/mission/civil-rights/covid-19-guidance. Recipients will find additional information on DBE in FTA's COVID-19 FAQs CR11, CR12 and CR13 at www.transit.dot.gov/coronavirus.

3. Title VI Service Equity Analyses

Under FTA's Title VI Circular (4702.1B), transit providers that operate 50 or more fixed route vehicles in peak service and are located in an urbanized area (UZA) with a population of 200,000 or more must perform a service equity analysis whenever they make a permanent major service change. When a full equity analysis is not required due to the size of the recipient or duration of a change, FTA expects agencies to take steps to ensure changes are equitable and nondiscriminatory.

FTA has not waived Title VI requirements for recipients during the COVID-19 pandemic. In addition to Circular 4702.1B, recipients will find information on equity analysis requirements in FTA's COVID-19 FAQs CR2 and CR15 at www.transit.dot.gov/coronavirus.

E. Consolidated Planning Grants

FTA and FHWA planning funds under both the Metropolitan Planning and State Planning and Research Programs can be consolidated into a single consolidated planning grant, awarded by either FTA or FHWA. The Consolidated Planning Grants (CPG) eliminate the need to monitor individual fund sources, if several have been used, and ensures that the oldest funds will always be used first.

Under the CPG, States can report metropolitan planning program expenditures, to comply with the Uniform Guidance 2 CFR part 200, subpart F, for both FTA and FHWA under the Catalogue of Federal Domestic Assistance number for FTA's Metropolitan Planning Program (20.505). Additionally, for States with an FHWA Metropolitan Planning (PL) fund-matching ratio greater than 80 percent, the State can waive the 20 percent local share requirement, with FTA's concurrence, to allow FTA funds used for metropolitan planning in a CPG to be granted at the higher FHWA rate. For some States, this Federal match rate can exceed 90 percent.

States interested in transferring planning funds between FTA and FHWA should contact the FTA Regional Office or FHWA Division Office for more detailed procedures. The FHWA Order 4551.1 dated August 12, 2013, on “Funding Transfers to Other Agencies and Among Title 23 Programs” provides guidance and more detailed information. This Order can be found on the FHWA website at: https://www.fhwa.dot.gov/legsregs/directives/orders/45511.cfm.

For more information on Consolidated Planning Grants, contact Ann Souvandara, Office of Budget and Policy, FTA, at (202) 366-0649 or ann.souvandara@dot.gov, or Victor Austin at (202) 366-2996 or victor.austin@dot.gov.

F. Grant Application Procedures

All applications for FTA funds should be submitted to the appropriate FTA Office. All applications are filed electronically. FTA continues to award and manage grants and cooperative agreements using the Transit Award Management System (TrAMS). To access TrAMS, contact your FTA Regional Office. Resources on using TrAMS can be found on FTA's website at https://www.transit.dot.gov/TrAMS.

FTA regional staff are responsible for working with recipients to review and process grant applications. For an application to be considered complete and ready for FTA to assign a Federal Award Identification Number (FAIN), enabling submission in TrAMS, and submission to the Department of Labor, when applicable, the following requirements must be met:

a. Recipient has registered in the System for Award Management (SAM) and its registration is current with an active status. To register an entity or check the status and renew registration, visit the SAM website at https://www.sam.gov/SAM.

b. Recipient's contact information, including Dun and Bradstreet Data Universal Numbering System (DUNS), is correct. To request a DUNS number, call Dun & Bradstreet at 1-866-705-5711 or visit the website at http://fedgov.dnb.com/webform.

c. Recipient has properly submitted its annual certifications and assurances.

d. Recipient's Civil Rights submissions are current.

e. Recipient has a Transit Asset Management plan in place that meets the requirements of 49 CFR part 625, or is covered by a compliant Group Plan.

f. Documentation is on file to support recipient's status as either a designated recipient for the program and area or a direct recipient.

g. Funding is available, including any flexible funds included in the budget, and split letters or suballocation letters on file, where applicable, to support the amount requested in the grant application.

h. The activity is listed in a currently approved Transportation Improvement Program (TIP); Statewide Transportation Improvement Program (STIP), or Unified Planning Work Program (UPWP) unless such requirements have been waived for the specific funding and activity type to facilitate response and recovery from the COVID-19 pandemic.

i. All eligibility issues are resolved.

j. Required environmental findings are made.

k. The application contains a well-defined scope of work, including at least one project with accompanying project narratives, at least one budget scope code and one activity line item, Federal and non-Federal funding amounts, and milestones.

l. Major Capital Projects as defined by 49 CFR part 633 “Project Management Oversight” must document FTA has reviewed the project management plan and provided approval.

m. Milestone information is complete. FTA will also review status of other open award reports to confirm financial and milestone information is current on other open awards.

n. Recipient has ensured that it has registered to report to the National Transit Database, and that any beneficiaries that provide public transportation service have also registered to report to the National Transit Database. FTA must also provide Congressional notification before awarding competitive grants.

Other important issues that impact FTA grant processing activities in addition to the list above are discussed below.

a. Award Budgets—Scope Codes and Activity Line Items (ALI) Codes; Financial Purpose Codes

FTA uses Scope and ALI Codes in the award budgets to track disbursements, monitor program trends, report to Congress, and to respond to requests from the Inspector General and the Government Accountability Office, as well as to manage grants. The accuracy of the data is dependent on the careful and correct use of codes.

b. Designated and Direct Recipients Documentation

For its formula programs, FTA primarily apportions funds to the designated recipient in the large UZAs (areas over 200,000), or for areas under 200,000 (small UZAs and rural areas), it apportions the funds to the Governor, or its designee (e.g., State DOT). Depending on the program, as described in the individual program sections found in Section IV of this notice, further suballocation of funds may be permitted to eligible recipients who may then apply directly to FTA for the funding as direct recipients.

For the programs in which FTA may make grants to eligible direct recipients, other than the designated recipient(s), recipients are reminded that documentation must be on file to support: (1) The status of the recipient either as a designated recipient or direct recipient; and (2) the allocation of funds to the direct recipient.

Documentation to support existing designated recipients for the UZA must also be on file at the time of the first application in FY 2021. Split letters and/or suballocation letters (Governor's Apportionment letters), must also be on file to support grant applications for direct recipients. Once suballocation letters for FY 2021 funding are finalized, they should be uploaded as part of the application into TrAMS.

The Direct Recipient is required to upload to TrAMS a copy of the suballocation letter (Letter) indicating their allocation of funding, for the appropriate fund program, when the applicant transmits their application for initial review. The Letter must be signed by the Designated Recipient, or as applicable in accordance with their planning requirements. If there are two Designated Recipients, both entities must sign the Letter. The Letter must: (1) Indicate the allocations to the respective Direct Recipients listed in the letter; (2) incorporate language above the signatories to reflect this agreement; and (3) make clear that the Direct Recipient will assume any/all responsibility associated with the award for the funds. When drafting the Letter, Designated Recipients may use the template language below:

As identified in this Letter, the Designated Recipient(s) authorize the reassignment/reallocation of [enter fund source; e.g., Section 5307 funds] to the Direct Recipient(s) named herein. The undersigned agree to the amounts allocated/reassigned to each direct Recipient. Each Direct Recipient is responsible for its application to the Federal Transit Administration to receive such funds and assumes the responsibilities associated with any award for these funds.

The contents of this document do not have the force and effect of law and are not meant to bind the public in any way. This document is intended only to provide clarity to the public regarding existing requirements under the law or agency policies.

Recipients should refer to applicable regulations and statutes referenced in this document.

Nuria I. Fernandez,
Administrator.

[FR Doc. 2021-15576 Filed 7-21-21; 8:45 am]

BILLING CODE P